POSTAL SERVICE

39 CFR Part 111

New Standards for Domestic Mailing Services

AGENCY: Postal Service.

ACTION: Proposed rule.

SUMMARY: On May 3, 2006, the Postal Service filed a request with the Postal Rate Commission to change prices for virtually all domestic mailing services. The Commission designated the filing as Docket No. R2006-1. This proposed rule provides the mailing standards that would accompany the new prices if the R2006-1 price change proposal is adopted.

DATES: We must receive your comments on or before November 13, 2006.

ADDRESSES: Mail or deliver written comments to the Manager, Mailing Standards, U.S. Postal Service, 475 L'Enfant Plaza SW., Room 3436, Washington DC 20260-3436. You may inspect and photocopy all written comments at USPS Headquarters Library, 475 L'Enfant Plaza SW., 11th Floor N, Washington DC between 9 a.m. and 4 p.m., Monday through Friday.

FOR FURTHER INFORMATION CONTACT: Joel Walker, 202-268-7266.

SUPPLEMENTARY INFORMATION: The Postal Service's request in Docket No. R2006-1 includes mail classification changes, new pricing structures, and price changes for most domestic mailing services. This proposed rule contains the revisions to Mailing Standards of the United States Postal Service, Domestic Mail Manual (DMM) that we would adopt to implement the R2006-1 price change proposal. We summarize our revisions by class of mail and extra service, and we provide our proposed changes to the mailing standards in the DMM. We invite your comments on all aspects of our proposed standards.

We also provide the proposed prices, price categories, and price structures that are currently under review by the Postal Rate Commission. The pricing proposal is subject to separate Commission proceedings. For more information visit http://www.prc.gov.

This is the first time since 2001 that we have proposed any restructuring to our prices. We adjusted prices in January 2006 solely to fund a $3.1 billion escrow account required by federal law. When our new prices are implemented in 2007, postage prices will have grown at or below the Consumer Price Index since 1971.

Overview

Our pricing proposal reflects changes in operations and the marketplace. Our proposal would enhance efficiency, offer more choices, and ensure that all types of mail cover their costs. We include incentives to create mailpieces compatible with our processing systems and deposit flats and parcels closer to where they are delivered.

Our proposed prices recognize that each shape of mailpiece—letter, flat, and parcel—has substantially different processing costs that need to be covered. Our current prices do not distinguish between shapes as much as they could. For example, in First-Class Mail, our current price is 63 cents for a 2-ounce piece regardless of whether it is a letter, flat, or parcel.

We also provide opportunities to mitigate the impact of price increases. If the contents of a First-Class Mail flat are folded and placed into a letter-size envelope, the mailer could save as much as 20 cents. If a parcel is reconfigured as a flat, the mailer could save up to 38 cents.

To better align mail preparation with our processing capabilities and to maximize access to lower rates for mailers, we propose to require scheme preparation wherever appropriate. We define the terms “5-digit/scheme” and “3-digit/scheme” as the preparation of bundles and containers for 5-digit and 3-digit ZIP Code combinations in any of our scheme labeling lists, and single 5-digit and 3-digit ZIP Codes not on these lists. We also propose to require all flat-size pieces to be uniformly thick.

First-Class Mail

Our proposal introduces prices based on the shape of mail and our relative costs, with separate prices for letters, flats, and parcels. As shape becomes more important, weight becomes less important, and our proposal reduces prices for many pieces over 1 ounce.

First-Class Mail Retail Letters, Flats, and Parcels

The single-piece 1-ounce First-Class Mail letter price would increase $0.03, to $0.42, and the single-piece card price also would increase $0.03, to $0.27. The additional-ounce price would decrease $0.04, to $0.20.

We propose a “forever stamp” to make future price changes more convenient for consumers. The postage value of the forever stamp would equal the First-Class Mail single-piece 1-ounce letter rate at any time in the future, without the addition of extra postage.

Our pricing proposal would eliminate the nonmachinable surcharge. Instead, a letter-size mailpiece with nonmachinable characteristics would pay the flat-size price. Our additional handling costs are included in the proposed 1-ounce flat-size price, so no surcharge is necessary. To qualify for letter rates, the maximum weight for letter-size pieces would be 3.5 ounces.

First-Class Mail Discount Letters and Flats

The additional-ounce price for automation letters would decrease from $0.237 to $0.155. We would maintain the 150-piece minimum tray preparation requirement for automation First-Class Mail letters and cards. Sort levels would be 5-digit/scheme, 3-digit/scheme, 3-digit origin, automation area distribution center (AADC), and mixed AADC. We propose a simplified preparation to allow mailers of machinable letters to sort only to the AADC and mixed AADC levels. We would eliminate the carrier route automation preparation and discounts. The maximum weight for letter rates, including automation pieces, would be 3.5 ounces.

We would expand the current requirement for pieces to be rectangular to all flats. The physical standards for automation flats would be the current criteria for AFSM 100 pieces, with new standards for flexibility. We also propose to lessen the deflection standard.

Our proposal would eliminate the nonmachinable surcharge. Instead, letter-size mailpieces with nonmachinable characteristics would pay flat-size prices. Presorted prices would be available for machinable letters sorted to the 3-digit origin, AADC, and mixed AADC levels.

To help reduce the costs of handling mail in letter trays, we propose a no-overflow tray option for automation letters. In addition, to encourage fuller trays, we propose to change our definition of a “full letter tray” to one in which the pieces fill the length of the tray between 85 percent and 100 percent full.

First-Class Mail Discount Parcels

The structure for discount parcels includes new workshare prices. The proposed rate levels are 5-digit, 3-digit, ADC, and single piece. At least 10 pounds of parcels would be required for 5-digit sacks, 3-digit sacks, and ADC sacks. Remaining pieces sorted to a mixed ADC sack would pay the single-piece First-Class Mail parcel price.

Discount parcels would require a 5-digit UCC/EAN 128 or POSTNET barcode. Unless prepared in 5-digit containers or paid at the single-piece rates, a surcharge would apply to all parcels that are not barcoded or weigh less than 2 ounces, or to irregularly shaped parcels such as triangles, tubes, rolls, and similar pieces.

Standard Mail

Our proposed prices encourage mail that is compatible with our operations and drop shipped closer to its destination. As in First-Class Mail, Standard Mail pricing has greater recognition of shape and reduced reliance on weight.

Standard Mail Letters

Automation letter sort levels would be 5-digit/scheme, 3-digit/scheme, AADC, and mixed AADC. We propose a simplified preparation to allow mailers of machinable letters to sort only to the AADC and mixed AADC levels.

Nonmachinable letter sort levels would be 5-digit, 3-digit, ADC, and mixed ADC, for which there would be separate rates. We would replace the nonmachinable surcharge with a separate rate structure for nonmachinable letters up to 3.3 ounces. Nonmachinable letters over 3.3 ounces would pay the flat-size rate or the Not Flat-Machinable rate.

Destination delivery unit (DDU) drop shipment entry rates would not be available for letters. However, destination sectional center facility (DSCF) entry rates would be allowed for DDU entry of some Enhanced Carrier Route letters, including letters with simplified addresses. Enhanced Carrier Route automation basic rates would be eliminated.

To help reduce the costs of handling mail in letter trays, we propose a no-overflow tray option for automation letters. In addition, to encourage fuller trays, we propose to change our definition of a “full letter tray” to one in which the pieces fill the length of the tray between 85 percent and 100 percent full.

Standard Mail Flats

The physical standards for automation flats would be the criteria for AFSM 100 pieces, with new standards for flexibility. This change would maximize the number of flats we can process in automated operations and deliver as flats. We also propose to lessen the deflection standard.

We propose to increase the maximum size for carrier route flats so that the same standards apply to all flats, regardless of the rate paid. We would expand the current requirement for pieces to be rectangular to all flats, except Customized MarketMail.

Standard Mail Not Flat-Machinable Pieces

Our proposal includes a new Not Flat-Machinable (NFM) classification for rigid flat-size pieces and for pieces that are currently automation-compatible only by meeting UFSM 1000 standards. We propose no bundling requirement for most NFMs and to have mailers prepare pieces in 5-digit/scheme, 3-digit, ADC/BMC, and mixed ADC/BMC containers. We propose allowing a DDU entry discount for NFMs sorted to 5-digit destinations when drop shipped directly to the DDU. There would be no minimum for NFMs drop shipped to DDUs. Unless prepared in 5-digit/scheme containers, a surcharge would apply to all NFMs that are not barcoded.

Standard Mail Parcels

We propose to eliminate the residual shape surcharge for Standard Mail parcels. We would no longer offer a $0.03 machinable barcode discount. Instead, parcel prices would include a requirement for barcodes. Unless prepared in 5-digit containers, a surcharge would apply to all parcels that are not barcoded.

We would rename “irregular” parcels as “nonmachinable” parcels and remove the bundling requirement for all Standard Mail nonmachinable parcels except enhanced carrier route pieces. We propose to reduce the required minimum quantity of nonmachinable parcels in sacks to 10 pounds per sack.

We would allow mailers to commingle machinable parcels, nonmachinable parcels, and the new Not Flat-Machinable pieces when they are able to combine them in 5-digit containers. We would allow mailers to combine certain ZIP Codes for Standard Mail parcels, machinable Parcel Select, and Bound Printed Matter parcels when prepared in 3-digit containers and entered at designated SCFs.

We propose to allow a DDU entry discount for parcels sorted to 5-digit destinations when drop shipped directly to the DDU. There would be no minimum for the amount of parcels drop shipped to a DDU. The DDU discount is currently available only for pieces sorted to carrier routes.

Customized MarketMail

Rates for Customized MarketMail would equal the 5-digit rate for Not Flat-Machinable pieces, and mailers would still be required to drop ship Customized MarketMail pieces to DDUs.

Detached Address Labels

Our proposal includes a new $0.015 charge for detached address labels with Enhanced Carrier Route saturation flat-size pieces. Mailers who prepare mail with addresses on their mailpieces could avoid the new charge.

Periodicals

Our proposed Periodicals prices encourage mailers to use pallets rather than sacks, and to fill sacks with more mail. We also enhance drop ship incentives to encourage mailers, including publishers of high editorial content publications, to enter Outside-County mail closer to its destination.

The pricing proposal includes a new $0.85 Outside-County Container Rate. The container rate would apply to pallets, sacks, or trays of Outside-County Periodicals mail. We also propose new drop ship prices based on nonadvertising pounds, in addition to increased per-piece drop ship discounts.

To encourage fuller letter trays, we propose to change our definition of a “full letter tray” to one in which the pieces fill the length of the tray between 85 percent and 100 percent full.

Package Services

Package Services includes Parcel Post, Bound Printed Matter, Media Mail, and Library Mail. Our proposal simplifies Package Services offerings and moves toward more efficient handling of parcels.

Parcel Post

Currently, parcels weighing less than 15 pounds and measuring more than 84 inches in combined length and girth are charged the 15-pound rates (the “balloon rate”). Under our proposal, parcels weighing less than 20 pounds and measuring more than 84 inches in combined length and girth would be charged the 20-pound rates.

The current $0.03 barcode discount available for machinable Parcel Select destination bulk mail center (DBMC) entry mail would be incorporated into the price and a barcode would be required. Nonbarcoded machinable pieces could claim only the applicable Intra-BMC/ASF rate.

We do not propose any changes to mail preparation standards for Parcel Post.

Bound Printed Matter

Single-piece Bound Printed Matter would be renamed “nonpresorted” Bound Printed Matter and would be eliminated as a retail option. The $0.08 discount off the parcel price for flat-size pieces increases to $0.16. The $0.03 per piece POSTNET barcode discount for flat-size mail and the $0.03 per piece barcode discount for machinable parcels would remain the same.

We propose to require 5-digit/scheme and 3-digit/scheme bundles and 5-digit/scheme sacks for presorted flat-size Bound Printed Matter. We propose to require 5-digit/scheme bundles for nonmachinable parcels weighing less than 10 pounds and 5-digit/scheme sacks for machinable and nonmachinable parcels.

Media Mail and Library Mail

We propose to require 5-digit/scheme and 3-digit/scheme bundles and 5/digit scheme sacks for presorted flat-size Media Mail and Library Mail. We propose to require 5-digit/scheme bundles for nonmachinable parcels and 5-digit/scheme sacks for machinable and nonmachinable parcels.

Priority Mail

We continue to offer convenience in Priority Mail. The USPS-produced flat-rate envelope still would pay the 1-pound price, $4.65 under the proposal, regardless of weight or destination. USPS-produced flat-rate boxes would pay $8.80 under the proposal, regardless of weight or destination, and would become a permanent offering. Prices for all Priority Mail pieces weighing over 25 pounds would decrease for all zones, many by as much as 20 percent.

Currently, Priority Mail pieces weighing less than 15 pounds and measuring more than 84 inches in combined length and girth are charged the 15-pound rates (the “balloon rate”). Under the proposal, Priority Mail pieces weighing less than 20 pounds and measuring more than 84 inches in combined length and girth would be charged the 20-pound rates. The new balloon rate would apply only to pieces addressed for local delivery and to zones 1-4.

Priority Mail pieces that exceed 1 cubic foot and are addressed to zones 5-8 could be subject to a new dimensional weight price. Postage for these pieces would be rated at the greater of their actual weight or their dimensional weight. In general, if a piece is relatively light for its size, it may be subject to a dimensional weight price. Dimensional weight is calculated using one of two formulas, one for rectangular and one for nonrectangular pieces.

Express Mail

Express Mail pieces often contain material that ranges from a half pound to 2 pounds. Currently, these pieces pay the 2-pound price. To keep Express Mail a viable, low-cost alternative for mailers, the pricing proposal would add a new 1-pound price.

The flat-rate envelope would continue to pay the half-pound price, regardless of weight.

Extra Services

Our proposal keeps insured mail reliable, easy, and affordable. All insured pieces would have a barcoded label and receive a delivery scan. We would not require a signature for insured items with an indemnity of $200 or less.

We propose new prices for Bulk Parcel Return Service, Business Reply Mail, Certificate of Mailing, Certified Mail, Collect on Delivery, Delivery Confirmation, Bulk Insurance, Express Mail Insurance, Merchandise Return Service, Money Orders, Parcel Airlift, Parcel Return Service, Registered Mail, Restricted Delivery, Return Receipt, Return Receipt for Merchandise, Signature Confirmation, and Special Handling.

Other Services

Our proposal seeks to modernize our services, improve address quality, and reduce undeliverable-as-addressed mail.

The Address Change Service electronic option for First-Class Mail would decrease from $0.21 to $0.06. All other classes of mail would increase from $0.21 to $0.25. Manual Address Correction Service for all classes of mail would decrease from $0.75 to $0.50.

A new automated option for Address Change Service would allow First-Class Mail letters to receive the first two notices at no charge, then each additional notice for $0.05 each. Standard Mail letters would receive the first two notices at $0.02, then each additional notice for $0.15 each. This new option would require mailers to use the new 4-State Customer Barcode.

Our proposed standards recognize the value of address matching software by encouraging mailers of all discount letters and flats to match their addresses using a Coding Accuracy Support System (CASS)—certified address matching process and the correct ZIP+4 code on each piece in their mailings. Because smaller mailers may need time to initiate such a change, we propose to implement this requirement in July 2009.

The fee structure for Confirm service would change from the Silver, Gold, and Platinum tiers to a unit-based structure. Customers would pay standardized annual fees and purchase blocks of units that are redeemed for Confirm scans. Units are redeemed at the rates of one unit per First-Class Mail scan or five units per scan for any other class of mail. The cost per block of units declines as volume thresholds are reached.

On-site meter services are no longer offered. The fees associated with on-site meter service, meter resetting, examination, and checking meters in and out of service would be eliminated.

Individual post office box holders at different locations may experience varying price changes as we continue to align prices with our costs for each location. Our proposal would also align the Caller Service fees.

We propose price changes for Address Sequencing Service, Mailing List Service, Permit Imprint fees, Pickup on Demand service, Premium Forwarding Service, Shipper Paid Forwarding, Stamped Cards, Stamped Envelopes, and all annual mailing fees.

Although we are exempt from the notice and comment requirements of the Administrative Procedure Act (5 U.S.C 410 (a)), we invite comments on the following proposed revisions to Mailing Standards of the United States Postal Service, Domestic Mail Manual (DMM), incorporated by reference in the Code of Federal Regulations. See 39 CFR part 111.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

100 Retail Mail: Letters, Cards, Flats, and Parcels

101 Physical Standards

1.0 Physical Standards for Letters

1.1 Dimensional Standards for Letters

* * * * *

[Renumber item c as item d. Insert new item c as follows:]

c. Not more than 3.5 ounces.

* * * * *

2.0 Physical Standards for Flats

2.1 General Definition

* * * * *

[Renumber current item c as new item f. Insert new items c through e as follows:]

c. Flexible (see 1.3).

d. Rectangular.

e. Uniformly thick (see 1.4)

* * * * *

[Insert new 2.2 through 2.4 as follows:]

2.2 Flexibility

Flat-size pieces must meet minimum flexibility criteria. Test flexibility as follows:

a. For pieces 10 inches or longer:

1. Place the piece with the length perpendicular to the edge of a flat surface and extend the piece 5 inches off the surface.

2. Press down on the piece at a central point about an inch off the edge of the surface, exerting a steady pressure.

3. The piece is flexible if it can bend at least 2 inches without being damaged.

b. For pieces less than 10 inches long:

1. Place the piece with the length perpendicular to the edge of a flat surface and extend the piece one-half of its length off the surface.

2. Press down on the piece at a central point about an inch off the edge of the surface, exerting a steady pressure.

3. The piece is flexible if it can bend at least 1 inch without being damaged.

2.3 Uniform Thickness

The contents of a flat-size mailpiece must remain uniformly thick so that the dimensions of the envelope, wrapper, or sleeve remain constant. If the contents are of irregular thickness or significantly smaller than the envelope, wrapper, or sleeve, those contents must be secured to prevent shifting within the wrapping during processing and surrounded with material or padding to ensure that the mailpiece remains uniformly thick.

2.4 Flat-Size Pieces Not Eligible for Flat-Size Rates

Mailpieces that do not meet the standards in 2.1 through 2.3 are not eligible for flat-size rates and must pay applicable parcel rates.

3.0 Physical Standards for Parcels

* * * * *

[Change the terminology from “irregular” parcels to “nonmachinable” parcels in the heading and text of 3.5.]

* * * * *

5.0 Additional Physical Standards for Priority Mail

* * * * *

5.2 Two or More Packages

[Revise 5.2 as follows:]

With the exception of USPS-produced Priority Mail flat-rate envelopes or boxes, two or more packages may be mailed as a single parcel if they are about the same size or shape, are securely wrapped or fastened together, and do not exceed the weight or size limits.

* * * * *

6.0 Additional Physical Standards for First-Class Mail

* * * * *

6.4 Nonmachinable Pieces

6.4.1 Nonmachinable Letters

[Revise 6.4.1 as follows:]

Letter-size pieces with one or more of the nonmachinable characteristics in 1.2 are subject to the applicable postage for a flat-size piece, based on weight.

[Revise heading and text of 6.4.2 as follows:]

6.4.2 Nonmachinable Flats

Flat-size pieces that do not meet the standards in 2.0 are subject to the applicable postage for a parcel-size piece, based on weight.

* * * * *

[Delete 8.0, Additional Physical Standards for Bound Printed Matter. Renumber 9.0 and 10.0 as new 8.0 and 9.0.]

* * * * *

102 Elements on the Face of a Mailpiece

* * * * *

3.0 Placement and Content of Mail Markings

* * * * *

[Revise heading of 3.3 as follows:]

3.3 Mail Markings

[Revise first sentence of 3.3 as follows:]

Mailers must print the basic required Package Services subclass marking—“Parcel Post” or “PP,” “Media Mail,” or “Library Mail”—on each piece claimed at the respective rate. * * *

* * * * *

113 Rates and Eligibility

[We provide the proposed rates and fees for all Express Mail services in “Rates and Fees” at the end of this notice, after all of the proposed mailing standards.]

1.0 Express Mail Rates and Fees

* * * * *

1.2 Express Mail Rate Application

[Revise 1.2 as follows:]

Except under 1.4, Flat-Rate Envelope, Express Mail items are charged the 0.5-pound rate for items up to 0.5 pound. Items over 0.5 pound are rounded up to the next whole pound. For example, if a piece weighs 0.25 pound, the weight (postage) increment is 0.5 pound; if a piece weighs 0.75 pound, the weight (postage) increment is 1 pound; if a piece weighs 1.2 pounds, the weight (postage) increment is 2 pounds.

* * * * *

120 Retail Mail: Priority Mail

123 Rates and Eligibility

[We provide the proposed rates and fees for all Priority Mail services in “Rates and Fees” at the end of this notice, after all of the proposed mailing standards.]

1.0 Priority Mail Rates and Fees

* * * * *

1.2 Priority Mail Rate Application

[Revise 1.2 as follows:]

Except under 1.3, 1.4, and 1.5, Priority Mail rates are charged per pound; any fraction of a pound is rounded up to the next whole pound. For example, if a piece weighs 1.2 pounds, the weight (postage) increment is 2 pounds. The minimum postage amount per addressed piece is the 1-pound rate. The Priority Mail rate up to 1 pound is based on weight only; rates for pieces weighing more than 1 pound are based on weight and zone. Other charges may apply. See Exhibit 1.2, Priority Mail Rates.

1.3 Minimum Rate for Parcels to Zones 1-4

[Revise 1.3 as follows:]

Parcels addressed for delivery to Zones 1-4 (including Local) that weigh less than 20 pounds but measure more than 84 inches (but not more than 108 inches) in combined length and girth are charged the applicable zone rate for a 20-pound parcel (balloon rate).

[Delete 1.6 and 1.7; renumber 1.4 and 1.5 as new 1.6 and 1.7. Insert new 1.4 and 1.5 as follows:]

1.4 Dimensional Weight Rate for Low-Density Parcels to Zones 5-8

Postage for parcels addressed for delivery to Zones 5-8 and exceeding 1 cubic foot (1,728 cubic inches) is charged based on the actual weight or the dimensional weight (as calculated in 1.4.1 or 1.4.2), whichever is greater.

1.4.1 Determining Dimensional Weight for Rectangular Parcels

Follow these steps to determine the dimensional weight for a rectangular parcel:

a. Measure the length, width, and height in inches. Round off each measurement.

b. Multiply the length by the width by the height.

c. If the result exceeds 1,728 cubic inches, divide the result by 194 and round up to the next whole number to determine the dimensional weight in pounds.

1.4.2 Determining Dimensional Weight for Nonrectangular Parcels

Follow these steps to determine the dimensional weight for a nonrectangular parcel:

a. Measure the length, width, and height in inches at their extreme dimensions. Round off each measurement.

b. Multiply the length by the width by the height.

c. Multiply the result by an adjustment factor of 0.785.

d. If the result exceeds 1,728 cubic inches, divide the result by 194 and round up to the next whole number to determine the dimensional weight in pounds.

e. If the dimensional weight exceeds 70 pounds, the parcel pays the 70-pound rate.

1.5 Flat-Rate Boxes and Envelopes

Any amount of material may be mailed in a USPS-produced Priority Mail flat-rate box or flat-rate envelope. When sealing a flat-rate box or flat-rate envelope, the container flaps must be able to close within the normal folds. Tape may be applied to the flaps and seams to reinforce the container, provided the design of the container is not enlarged by opening the sides, and the container is not reconstructed in any way.

1.5.1 Flat-Rate Boxes—Rate and Eligibility

Each USPS-produced Priority Mail flat-rate box is charged $8.80, regardless of the actual weight of the piece or its destination. Only USPS-produced flat-rate boxes are eligible for the flat-rate box rate.

1.5.2 Flat-Rate Envelopes—Rate and Eligibility

Each USPS-produced Priority Mail flat-rate envelope is charged $4.65, regardless of the actual weight of the piece or its destination. Only USPS-produced flat-rate envelopes are eligible for the flat-rate envelope rate.

* * * * *

130 Retail Mail: First-Class Mail

133 Rates and Eligibility

[We provide the proposed rates and fees for all First-Class Mail services in “Rates and Fees” at the end of this notice, after all of the proposed mailing standards.]

1.0 First-Class Mail Rates and Fees

1.1 First-Class Mail Single-Piece Rate Application

* * * * *

[Revise the weight limit in item b as follows:]

b. The letter rate applies to letter-size pieces that meet the standards in 101.1.1 and weigh 3.5 ounces or less, and that are not eligible for and claimed at the card rate.

[Insert new items c and d as follows:]

c. The flat rate applies to flat-size pieces that meet the standards in 101.2.1 and letter-size pieces with one or more of the nonmachinable characteristics in 101.1.2.

d. The parcel rate applies to parcel-size pieces under 101.3.0 and to flat-size pieces that do not meet the standards in 101.2.0.

* * * * *

[Restructure the rate tables in 1.4 through 1.7 as new 1.4 through 1.8 and 1.10 to add separate letter, flat, and parcel rate tables. Delete current 1.9 and 1.10 for the nonmachinable surcharge. Renumber current 1.7 as new 1.9.]

1.9 Keys and Identification Devices

[Revise renumbered 1.9 to remove references to nonmachinable surcharge in the first three sentences as follows:]

Keys and identification devices (such as identification cards and uncovered identification tags) that weigh 13 ounces or less are returned at the applicable single-piece First-Class Mail parcel rate plus the fee. Keys and identification devices that weigh more than 13 ounces but not more than 1 pound are returned at the 1-pound Priority Mail rate plus the fee. Keys and identification devices weighing more than 1 pound but not more than 2 pounds are mailed at the 2-pound Priority Mail rate for zone 4 plus the fee. * * *

* * * * *

2.0 Basic Eligibility Standards for First-Class Mail

2.1 Description of Service

* * * * *

2.1.2 Rate Options

[Revise 2.1.2 to add shape-based reference as follows:]

First-Class Mail offers shape-based single-piece rates in 1.0.

* * * * *

150 Retail Mail: Parcel Post

153 Rates and Eligibility

[We provide the proposed rates and fees for all Parcel Post services in “Rates and Fees” at the end of this notice, after all of the proposed mailing standards.]

1.0 Parcel Post Rates and Fees

1.1 Rate Eligibility

* * * * *

[Revise item d as follows:]

d. Parcels that weigh less than 20 pounds but measure more than 84 inches (but not more than 108 inches) in combined length and girth are charged the applicable rate for a 20-pound parcel (balloon rate).

* * * * *

1.7 Inter-BMC/ASF Machinable Parcel Post

[Revise the last sentence in 1.7 as follows:]

* * * Parcels that weigh less than 20 pounds but measure more than 84 inches (but not more than 108 inches) in combined length and girth are charged the applicable rate for a 20-pound parcel (balloon rate).

1.8 Inter-BMC/ASF Nonmachinable Parcel Post

[Revise the first three sentences in 1.8 as follows:]

Rates include the $3.62 nonmachinable surcharge. Regardless of weight, a parcel that meets any of the criteria in 101.7.2, Nonmachinable Parcel Post Standards, must pay the rate listed in Exhibit 1.9. Parcels that weigh less than 20 pounds but measure more than 84 inches (but not more than 108 inches) in combined length and girth are charged the applicable rate for a 20-pound parcel (balloon rate). * * *

1.10 Local and Intra-BMC/ASF Machinable Parcel Post

[Revise the third sentence in 1.10 as follows:]

* * * Parcels that weigh less than 20 pounds but measure more than 84 inches (but not more than 108 inches) in combined length and girth are charged the applicable rate for a 20-pound parcel (balloon rate). * * *

1.11 Local and Intra-BMC/ASF Nonmachinable Parcel Post

[Revise the first three sentences in 1.11 as follows:]

Rates include the $1.85 nonmachinable surcharge. Regardless of weight, a parcel that meets any of the criteria in 101.7.2, Nonmachinable Parcel Post Standards, must pay the rates in Exhibit 1.12. Parcels that weigh less than 20 pounds but measure more than 84 inches (but not more than 108 inches) in combined length and girth are charged the applicable rate for a 20-pound parcel (balloon rate). * * *

160 Retail Mail: Bound Printed Matter

[Delete 160 in its entirety. These standards are incorporated into 360 and 460.]

* * * * *

200 Discount Mail: Letters and Cards

201 Physical Standards

1.0 Physical Standards for Machinable Letters and Cards

1.1 Physical Standards for Machinable Letters

* * * * *

1.1.2 Weight Standards for Machinable Letters

[Revise 1.1.2 to change the maximum weight for First-Class Mail machinable letters to 3.5 ounces as follows:]

The maximum weight for Presorted First-Class Mail machinable letters is 3.5 ounces (0.2188 pound). The maximum weight for Standard Mail machinable letters is 3.3 ounces (0.2063 pound).

* * * * *

2.0 Physical Standards for Nonmachinable Letters

* * * * *

[Delete 2.2.2. Renumber 2.2.1 as new 2.2 and revise as follows:]

2.2 Additional Criteria for First-Class Mail Nonmachinable Letters

Letter-size pieces (except pieces eligible for and mailed at card rates) with one or more of the nonmachinable characteristics in 2.1 are subject to the rates for flat-size pieces

.

[Delete 2.3.2. Renumber 2.3.1 as new 2.3 and revise as follows:]

2.3 Additional Criteria for Standard Mail Nonmachinable Letters

The nonmachinable rates in 243.1.5 apply to Standard Mail letter-size pieces that weigh 3.3 ounces or less and have one or more of the nonmachinable characteristics in 2.1.

3.0 Physical Standards for Automation Letters and Cards

* * * * *

3.3 Weight Standards for First-Class Mail Automation Letters and Cards

[Revise 3.3 to change the weight limit as follows:]

Maximum weight for First-Class Mail automation letters is 3.5 ounces (0.2188 pound). See 3.13.4 for pieces heavier than 3 ounces.

3.4 Weight Standards for Standard Mail Automation Letters

[Revise 3.4 to remove the reference to automation carrier route mail as follows:]

Maximum weight for Standard Mail mailed at automation and Enhanced Carrier Route high density and saturation rates is 3.5 ounces (0.2188 pound). See 3.13.4 for pieces heavier than 3 ounces.

* * * * *

202 Elements on the Face of a Mailpiece

* * * * *

3.0 Placement and Content of Mail Markings

* * * * *

3.3 Placement of Mail Markings

* * * * *

[Revise item b, item b3, and item c to delete “AUTOCR.”]

* * * * *

3.4 Exceptions to Markings

* * * * *

[Revise item a to remove references to carrier route mail as follows:]

a. Automation Letters: First-Class Mail and Standard Mail letters do not require an “AUTO” marking if they bear a delivery point barcode in the address block or on an insert visible through a window. First-Class Mail letters not marked “AUTO” must bear both the “Presorted” or “PRSRT” and “First-Class” markings. Standard Mail letters not marked “AUTO” must bear the appropriate basic marking in 3.3a.

[Revise the second sentence in item b as follows:]

b. * * * The two-letter rate category code required in the keyline on manifest mailing pieces prepared under 705.2.0, Manifest Mailing System, meets the requirement for other rate markings.

* * * * *

230 Discount Letters and Cards: First-Class Mail

233 Rates and Eligibility

[We provide the proposed rates and fees for all First-Class Mail services in “Rates and Fees” at the end of this notice, after all of the proposed mailing standards.]

1.0 Rates and Fees for First-Class Mail

1.1 Rate Application

[Revise 1.1 to add “letter” as follows:]

Postage is based on the letter rate that applies to the weight of each addressed piece.

1.2 Rate Computation for First-Class Mail Letters

[Revise the first sentence in 1.2 to add “letter” as follows:]

First-Class Mail letter rates are charged per ounce or fraction thereof; any fraction of an ounce is considered a whole ounce. * * *

* * * * *

[Delete 1.13, 1.14, and 1.16. Renumber 1.15 as new 1.13. Renumber 1.17 through 1.19 as new 1.14 through 1.16.]

* * * * *

3.0 Basic Standards for First-Class Mail Letters

3.1 Description of Service

* * * * *

3.1.2 Rate Options

[Revise 3.1.2 as follows:]

First-Class Mail letters offer shape-based single-piece rates in 133.1.0 and discounted rates in 1.0 for presorted mailings of 500 or more pieces that weigh 3.5 ounces or less.

* * * * *

3.3 Additional Standards for First-Class Mail

[Revise introductory text in 3.3 as follows:]

All pieces of presorted First-Class Mail letters must:

* * * * *

[Revise the weight in item b as follows:]

b. Weigh 3.5 ounces or less.

* * * * *

3.6 ZIP Code Accuracy

3.6.1 Basic Standards

[Revise the text in 3.6.1 as follows:]

The ZIP Code accuracy standard is a means of ensuring that the ZIP+4 or 5-digit ZIP Code in the delivery address correctly matches the delivery address information. For the purposes of this standard, address means a specific address associated with a specific ZIP+4 or 5-digit ZIP Code. Effective July 2009, mailers of all discount letters, flats, and parcels must properly code and match their address lists using one of the CASS-certified address matching methods in 708.3.0 and use the correct ZIP+4 code on each mailpiece. Mailers are encouraged to begin this practice immediately. Addresses used on pieces claiming discount rates must meet these requirements:

a. Each address and associated ZIP+4 or 5-digit ZIP Code used on the mailpieces in a mailing must be verified and corrected within 12 months before the mailing date with one of the USPS-approved methods in 3.6.2.

b. If an address used on a mailpiece in a mailing at one class of mail and rate is verified and corrected with an approved method, the same address may be used during the following 12 months to meet the ZIP Code accuracy standard required for mailing at any other class of mail and rate.

* * * * *

4.0 Additional Eligibility Standards for Nonautomation First-Class Mail Letters

* * * * *

[Revise heading of 4.3 as follows:]

4.3 Letters With Nonmachinable Characteristics

[Revise 4.3 to delete nonmachinable surcharge as follows:]

Letters with one or more of the nonmachinable characteristics in 201.2.1 must pay the flat-size rate. In addition to the standards in 3.0, Basic Standards for First-Class Mail Letters, all pieces in a First-Class Mail Presorted nonmachinable letter-size mailing must be marked, sorted, and documented according to 235.5.4, Nonmachinable Preparation.

* * * * *

[Revise heading of 5.0 to delete “Carrier Route” as follows:]

5.0 Additional Eligibility Standards for Automation Rate First-Class Mail Letters

[Revise heading of 5.1 as follows:]

5.1 Basic Standards for Automation First-Class Mail Letters

* * * * *

[Delete item d2. Move text in item d1 into item d.]

* * * * *

[Delete 5.2, Carrier Route Accuracy, and renumber 5.3 and 5.4 as new 5.2 and 5.3.]

* * * * *

5.2 Maximum Weight for Automation Letters

[Revise renumbered 5.2 to change maximum weight from 3.3 to 3.5 ounces as follows:]

Maximum weight for First-Class Mail automation letters is 3.5 ounces (0.2188 pound) (see 201.3.13.4, Heavy Letter Mail, for pieces heavier than 3 ounces).

5.3 Rate Application—Automation Cards and Letters

* * * * *

[Delete item a. Renumber items b through e as new items a through d and revise as follows:]

a. Groups of 150 or more pieces in 5-digit/scheme trays qualify for the 5-digit rate. Preparation to qualify for the 5-digit rate is optional. Pieces placed in full 3-digit/scheme trays in lieu of 5-digit/scheme overflow trays under 235.6.6 are eligible for the 5-digit rates.

b. Groups of 150 or more pieces in 3-digit/scheme trays qualify for the 3-digit rate. Pieces placed in full AADC trays in lieu of 3-digit/scheme overflow trays under 235.6.6 are eligible for the 3-digit rates.

c. Groups of fewer than 150 pieces in origin 3-digit/scheme trays and all pieces in AADC trays qualify for the AADC rate. Pieces placed in mixed AADC trays in lieu of AADC overflow trays under 235.6.6 are eligible for the AADC rates.

d. Pieces in mixed AADC trays qualify for the mixed AADC rate, except for pieces prepared under 5.3c.

* * * * *

[Delete 5.5 and renumber 5.6 and 5.7 as new 5.4 and 5.5.]

* * * * *

[Delete renumbered 5.4.7, Rural and Highway Contract Routes.]

* * * * *

234 Postage Payment and Documentation

* * * * *

2.0 Postage Payment for Presorted Letters

* * * * *

2.2 Affixed Postage for Presorted First-Class Mail

* * * * *

[Revise item b to delete the reference to the nonmachinable surcharge as follows:]

b. A precanceled stamp or the full postage at the lowest First-Class Mail 1-ounce rate applicable to the mailing job, and full postage on metered pieces for any additional ounces or extra services.

* * * * *

235 Mail Preparation

1.0 General Definition of Terms

* * * * *

1.2 Definitions of Mailings

* * * * *

[Revise the second sentence in item a to remove “automation carrier route” as follows:]

a. * * * Generally, automation and nonautomation letters must be prepared as separate mailings. * * *

* * * * *

1.3 Terms for Presort Levels

* * * * *

[Delete item a and renumber items b through k as new items a through j.]

* * * * *

1.4 Preparation Definitions and Instructions

* * * * *

[Revise item b as follows:]

b. A full letter tray is one in which faced, upright pieces fill the length of the tray between 85% and 100% full.

* * * * *

[Revise item e by deleting the last sentence.]

* * * * *

2.0 Bundles

* * * * *

2.3 Preparing Bundles

* * * * *

[Revise item a by deleting the first sentence and revising the remaining sentence as follows:]

a. The maximum thickness for bundles is 6 inches.

* * * * *

[Delete item d and renumber items e and f as new items d and e.]

* * * * *

2.8 Labeling Bundles

[Revise the first sentence in 2.8 by deleting the reference to carrier route bundles as follows:]

Unless excepted by standard, the presort level of each bundle must be identified either with an optional endorsement line under 708.7.0 or with a barcoded pressure-sensitive bundle label. * * *

* * * * *

[Delete 2.10 and 2.11.]

* * * * *

4.0 Tray Labels

* * * * *

4.4 Line 2 (Content Line)

[Revise the table in item 4.4b to delete the entries for “Carrier Route,” “Carrier Routes,” “General Delivery Unit,” “Highway Contract Route,” “Post Office Box Section,” and “Rural Route.”]

* * * * *

5.0 Preparation for Nonautomation Letters

* * * * *

[Delete 5.2, Manual Only Option, and renumber 5.3 and 5.4 as new 5.2 and 5.3.]

5.2 Machinable Preparation

* * * * *

5.2.2 Traying and Labeling

[Revise the introductory text in 5.2.2 as follows:]

Instead of preparing overflow AADC trays with fewer than 150 pieces, mailers may include these pieces in mixed AADC trays.

* * * * *

[Delete item a about labeling the 5-digit tray. Renumber items b through d as new items a through c. Revise renumbered item a to reflect the 3-digit origin tray as follows:]

a. Separate 3-digit origin trays required for each origin 3-digit ZIP Code; one less-than-full tray permitted for each origin ZIP Code; labeling:

1. Line 1: L002, Column A.

2. Line 2: “FCM LTR 3D MACH.”

* * * * *

5.3 Nonmachinable Preparation

5.3.1 Nonmachinable Bundling

[Revise the second-to-last sentence in 5.3.1 as follows:]

* * * Smaller volumes are not permitted except for mixed ADC bundles. * * *

* * * * *

6.0 Preparation for Automation Rate Letters

* * * * *

6.2 Mailings

* * * * *

[Revise item b as follows:]

b. First-Class Mail. A single automation rate First-Class Mail mailing may include pieces prepared at 5-digit, 3-digit, origin 3-digit, AADC, and mixed AADC rates.

* * * * *

6.3 Marking

[Revise 6.3 to delete the carrier route references as follows:]

All automation rate pieces must be marked under 202.3.0, Placement and Content of Mail Markings, and 202.4.0, Endorsement Placement. Pieces claimed at an automation rate must bear the appropriate class marking and, except as provided in 202.3.0, Placement and Content of Mail Markings, and 202.4.0, Endorsement Placement, “AUTO.” Pieces not claimed at an automation rate must not bear “AUTO” unless single-piece rate postage is affixed or the corrective single-piece rate marking (“SNGLP” or “Single-Piece”) is applied.

6.4 General Preparation

[Revise 6.4 to delete carrier route references and add a new last sentence as follows:]

Grouping, bundling, and labeling are not generally required or permitted, except bundling is required in any mailing consisting entirely of card-size pieces and for pieces in overflow and less-than-full trays, and grouping is required under 6.6.

* * * * *

[Delete 6.6 and 6.7. Renumber 6.8 through 6.10 as new 6.6 through 6.8.]

6.6 Tray Preparation

[Add introductory statement about overflow trays to 6.6 as follows:]

Instead of preparing overflow trays with fewer than 150 pieces, mailers may include these pieces in the next tray level if it results in a full tray. Pieces must be grouped by destination. This option does not apply to origin 3-digit trays. When using this option, it must be applied to the entire mailing. Preparation sequence, tray size, and Line 1 labeling:

[Delete items a through c and renumber items d through g as new items a through d. Revise renumbered item a as follows:]

a. 5-digit/scheme (see 1.4e): optional, but required for 5-digit rate (150-piece minimum); overflow allowed.

1. For 5-digit scheme trays, use destination shown in the current USPS City State Product.

2. For 5-digit trays, use city, state, and 5-digit ZIP Code destination on pieces (see 4.0 for overseas military mail).

* * * * *

6.7 Tray Line 2

* * * * *

[Delete items a through c and renumber items d through i as new items a through f.]

* * * * *

240 Discount Letters and Cards: Standard Mail

243 Rates and Eligibility

[We provide the proposed rates and fees for all Standard Mail services in “Rates and Fees” at the end of this notice, after all of the proposed mailing standards.]

1.0 Rates and Fees for Standard Mail

* * * * *

1.7 Computing Postage for Standard Mail

* * * * *

1.7.8 Discount for Heavy Automation Letters

[Revise 1.7.8 by deleting the second-to-last sentence about automation ECR.]

* * * * *

[Delete 1.7.10.]

* * * * *

3.0 Basic Standards for Standard Mail Letters

* * * * *

3.2 Defining Characteristics

3.2.1 Mailpiece Weight Limit

[Revise 3.2.1 as follows:]

All Standard Mail pieces must weigh less than 16 ounces. The following weight limits also apply to pieces mailed at Standard Mail letter rates:

a. Pieces mailed at machinable and nonmachinable letter rates may weigh up to 3.3 ounces. Letter-size pieces weighing more than 3.3 ounces and prepared as nonmachinable letters are mailable at Not Flat-Machinable rates (see 443), unless they qualify for automation letter rates or Enhanced Carrier Route high-density or saturation rates.

b. Pieces mailed at automation letter rates or Enhanced Carrier Route high-density or saturation rates may weigh up to 3.5 ounces.

* * * * *

3.3 Additional Basic Standards for Standard Mail

* * * * *

[Revise item e by adding a reference to 3.8.1 as follows:]

e. Each piece must bear the addressee's name and delivery address, including the correct ZIP Code or ZIP+4 code (see 3.8.1), unless an alternative addressing format is used subject to 602.3.0. Detached address labels may be used subject to 602.4.0.

* * * * *

3.8 ZIP Code Accuracy

3.8.1 Basic Standards

[Revise the introductory text and item a in 3.8.1 as follows:]

The ZIP Code accuracy standard is a means of ensuring that the ZIP+4 or 5-digit ZIP Code in the delivery address correctly matches the delivery address information. For the purposes of this standard, address means a specific address associated with a specific ZIP+4 or 5-digit ZIP Code. Effective July 2009, mailers of all discount letters, flats, and parcels must properly code and match their address lists using one of the CASS-certified address matching methods in 708.3.0 and use the correct ZIP+4 code on each mailpiece. Mailers are encouraged to begin this practice immediately. Except for mail bearing a simplified address, addresses used on pieces claiming discount rates must meet these requirements:

a. Each address and associated ZIP+4 or 5-digit ZIP Code used on the mailpieces in a mailing must be verified and corrected within 12 months before the mailing date with one of the USPS-approved methods in 3.8.2.

[Delete item b and renumber items c and d as new items b and c.]

* * * * *

4.0 Rate Eligibility for Standard Mail

* * * * *

4.2 Minimum Per Piece Rates

* * * * *

[Revise item b1 by deleting “(nonletter).”]

* * * * *

[Revise item b3 by changing the base rate for Customized MarketMail as follows:]

3. Pieces mailed as Customized MarketMail under 705.1.0 must pay the Regular or Nonprofit Standard Mail 5-digit nonentry rates for Not Flat-Machinable pieces and must not exceed 3.3 ounces.

[Revise item c by deleting the last sentence about DDU rates.]

* * * * *

[Delete 4.4, Residual Shape Surcharge.]

[Replace “presorted” with “nonautomation” throughout 5.0.]

5.0 Additional Eligibility Standards for Nonautomation Standard Mail Letters

* * * * *

[Revise heading and text of 5.4 to refer to new AADC and mixed AADC rates, instead of basic rates, as follows:]

5.4 Machinable Rate Application

Machinable letters are subject only to AADC and mixed AADC rates.

5.4.1 AADC Rate

The AADC rate applies to qualifying letter-size machinable pieces (see 201.1.0, Physical Standards for Machinable Letters and Cards) in quantities of 150 or more pieces prepared in AADC trays for a single AADC (see L801).

5.4.2 Mixed AADC Rate

The mixed AADC rate applies to qualifying letter-size machinable pieces that the mailer prepares in mixed AADC trays, except for pieces placed in mixed AADC trays in lieu of overflow AADC trays (see 245.5.3.2).

[Delete 5.5 and 5.6. Insert new 5.5 as follows:]

5.5 Nonmachinable Rate Application

Nonmachinable rates in 1.0 apply only to Standard Mail letter-size pieces (including card-size pieces) weighing 3.3 ounces or less that have one or more of the nonmachinable characteristics in 201.2.1. Nonmachinable letter-size pieces weighing more than 3.3 ounces are subject to Not Flat-Machinable rates (see 443).

5.5.1 5-Digit Rate

The 5-digit rate applies to letter-size pieces subject to the nonmachinable rates (see 5.5) prepared in quantities of 150 or more pieces for a 5-digit ZIP Code and presented in 5-digit trays under 245.5.0.

5.5.2 3-Digit Rate

The 3-digit rate applies to letter-size pieces subject to the nonmachinable rates (see 5.5) prepared in quantities of 150 or more pieces for a 3-digit ZIP Code and presented in 3-digit trays under 245.5.0.

5.5.3 ADC Rate

The ADC rate applies to letter-size pieces subject to the nonmachinable rates (see 5.5) prepared in quantities of 150 or more pieces for an ADC and presented in ADC trays under 245.5.0.

5.5.4 Mixed ADC Rate

The mixed ADC rate applies to letter-size pieces that are subject to the nonmachinable rates and prepared in mixed ADC trays.

[Revise heading in 6.0 as follows:]

6.0 Additional Eligibility Standards for Enhanced Carrier Route Standard Mail Letters

6.1 General Enhanced Carrier Route Standards

6.1.1 Optional Preparation

[Revise 6.1.1 by deleting the last sentence about automation basic carrier route.]

* * * * *

6.1.2 Basic Eligibility Standards

* * * * *

[Revise item b by deleting the second sentence about automation basic carrier route.]

* * * * *

6.1.3 Maximum Weight for Enhanced Carrier Route Letters

[Revise 6.1.3 by deleting the reference to automation carrier route as follows:]

Maximum weight for Standard Mail Enhanced Carrier Route high density and saturation pieces: 3.5 ounces (0.2188 pound) (see 201.3.13.4, Heavy Letter Mail, for pieces heavier than 3 ounces).

* * * * *

6.2 Carrier Route Accuracy

6.2.1 Basic Standards

* * * * *

[Revise item a by deleting the last sentence.]

* * * * *

[Delete 6.6, Automation ECR Standards.]

* * * * *

7.0 Eligibility Standards for Automation Rate Standard Mail

* * * * *

7.3 Rate Application for Automation Letters

* * * * *

[Revise items a through d to accommodate an option to overflow trays as follows:]

a. Groups of 150 or more pieces in 5-digit/scheme trays qualify for the 5-digit rate. Preparation to qualify for that rate is optional. Pieces placed in full 3-digit/scheme trays in lieu of 5-digit/scheme overflow trays are eligible for 5-digit rates (see 245.7.5).

b. Groups of 150 or more pieces in 3-digit/scheme trays qualify for the 3-digit rate. Pieces placed in full AADC trays in lieu of 3-digit/scheme overflow trays are eligible for 3-digit rates (see 245.7.5).

c. Groups of fewer than 150 pieces in origin/entry 3-digit/scheme trays and groups of 150 or more pieces in AADC trays qualify for the AADC rate. Pieces placed in mixed AADC trays in lieu of AADC overflow trays also are eligible for AADC rates (see 245.7.5).

d. Pieces in mixed AADC trays qualify for the mixed AADC rate, except for pieces prepared under 7.3c.

* * * * *

245 Mail Preparation

1.0 General Information for Mail Preparation

* * * * *

1.2 Definitions of Mailings

* * * * *

[Delete item b1 about automation ECR. Renumber items b2 through b8 as new items b1 through b7.]

* * * * *

1.4 Preparation Definitions and Instructions

* * * * *

[Revise item b as follows:]

b. A full letter tray is one in which faced, upright pieces fill the length of the tray between 85% and 100% full.

* * * * *

[Revise the last sentence in item e as follows:]

e. * * * When standards require 5-digit/scheme sort, mailers must prepare all possible 5-digit scheme trays, then prepare all possible 5-digit trays.

[Revise item f by adding a new last sentence as follows:]

f. * * * When standards require 3-digit/scheme sort, mailers must prepare all possible 3-digit scheme trays, then prepare all possible 3-digit trays.

* * * * *

2.0 Bundles

* * * * *

2.3 Preparing Bundles

* * * * *

[Revise item c by deleting “and for Standard Mail pieces where the mailer has requested “manual only” processing.” Revise item d by deleting the second sentence.]

* * * * *

[Revise heading in 5.0 as follows:]

5.0 Preparation for Nonautomation Letters

* * * * *

5.2 Marking

[Revise 5.2 by deleting “AUTOCR” in the last sentence.]

* * * * *

[Delete 5.3. Renumber current 5.4 and 5.5 as new 5.3 and 5.4.]

5.3 Machinable Preparation

5.3.1 Machinable Bundling

* * * * *

[Delete item b. Renumber item c as new item b.]

* * * * *

5.3.2 Traying and Labeling

[Replace the first sentence in 5.3.2 with new text as follows:]

Instead of preparing overflow AADC trays with fewer than 150 pieces, mailers may include these pieces in mixed AADC trays. * * *

* * * * *

[Delete items a through c. Renumber items d and e as new items a and b and revise as follows:]

a. AADC (required); 150-piece minimum (overflow allowed); labeling: * * *

* * * * *

b. Mixed AADC (required); no minimum; labeling: * * *

* * * * *

5.4 Nonmachinable Preparation

5.4.1 Nonmachinable Bundling

[Revise renumbered 5.4.1 to delete the fourth sentence about manual processing.]

* * * * *

5.4.2 Traying and Labeling

[Revise introductory text in 5.4.2 and items a through c as follows:]

Overflow trays are not allowed. Preparation sequence, tray size, and labeling:

a. 5-digit (required); 150-piece minimum; labeling: * * *

* * * * *

b. 3-digit (required); 150-piece minimum; labeling: * * *

* * * * *

c. ADC (required); 150-piece minimum; labeling: * * *

* * * * *

6.0 Preparation for Enhanced Carrier Route Letters

6.1 Basic Standards

[Revise 6.1 by deleting “(Enhanced Carrier Route automation rate mailings must be prepared under 7.0)” in the introductory text.]

* * * * *

6.4 Carrier Route Bundle Preparation

* * * * *

[Revise item a as follows:]

a. Mailers must prepare only carrier route bundles, except under 6.7. Carrier route bundles are not permitted in full carrier route trays, except for card-size pieces.

* * * * *

[Revise heading of 6.6 as follows:]

6.6 General Traying and Labeling

* * * * *

[Renumber 6.7 through 6.9 as new 6.8 through 6.10. Insert new 6.7 as follows:]

6.7 Traying and Labeling for Enhanced Carrier Route Letters for ZIP Codes Identified in the City State Product

Mailers preparing automation-compatible, barcoded ECR letters that weigh up to 3 ounces for ZIP Codes identified with a “C” or a “D” in the Carrier Route indicators in the USPS City State Product must make full carrier route and 5-digit carrier routes trays. Except for card-size pieces, pieces must not be bundled. Group pieces together by carrier route in 5-digit and 3-digit carrier routes trays. If pieces for one carrier route do not result in a full tray, mailers must combine pieces for more than one route to make full 5-digit carrier routes trays, grouping pieces together by carrier route. If pieces for multiple carrier routes do not result in a full 5-digit tray, mailers must combine pieces for more than one 5-digit ZIP Code to make 3-digit carrier routes trays, grouping pieces together by carrier route. If pieces fill more than one tray but do not fill an additional tray, mailers must place excess pieces in a tray at the next sortation level. Preparation sequence, tray size, and labeling:

a. Carrier route: required; full trays only, no overflow.

1. Line 1: city, state, and 5-digit ZIP Code on mail (see 4.0 for overseas military mail).

2. Line 2: for saturation, “STD LTR BC WSS,” followed by route type and number; for high density, “STD LTR BC WSH,” followed by route type and number; for basic, “STD LTR BC LOT,” followed by route type and number.

b. 5-digit carrier routes: required; full trays only, no overflow, no bundling.

1. Line 1: city, state, and 5-digit ZIP Code on mail (see 4.0 for overseas military mail).

2. Line 2: “STD LTR 5-D CR-RT BC.”

c. 3-digit carrier routes: required; bundling required in less than full trays.

1. Line 1: city, state, and 3-digit ZIP Code prefix shown in L002, Column A, that corresponds to 3-digit ZIP Code prefix on mail.

2. Line 2: “STD LTR 3-D CR-RT BC.”

* * * * *

7.0 Preparation for Automation Rate Letters

* * * * *

7.2 Mailings

[Restructure 7.2 by deleting the introductory text and item b. Make item a the new text.]

* * * * *

7.3 Marking

[Revise 7.3 by deleting the parenthetical phrase in the second sentence and deleting “AUTOCR” in the last sentence.]

* * * * *

7.4 General Preparation

[Revise 7.4 to delete carrier route references and add a new last sentence as follows:]

Grouping, bundling, and labeling are not generally required or permitted, except bundling is required in any mailing consisting entirely of card-size pieces and for pieces in overflow and less-than-full trays, and grouping is required under 7.5.

* * * * *

[Delete 7.5 and 7.6 about carrier route trays and pieces. Renumber 7.7 through 7.9 as new 7.5 through 7.7.]

7.5 Tray Preparation

[Add new first, second, and third sentences about overflow trays to renumbered 7.5 as follows:]

Instead of preparing overflow trays with fewer than 150 pieces, mailers may include these pieces in the next tray level if it results in a full tray. Pieces must be grouped by destination. When using this option, it must be applied to the entire mailing. Preparation sequence, tray size, and Line 1 labeling:

[Delete items a through c about carrier routes trays. Renumber items d through g as new items a through d. Revise renumbered item a to require 5-digit/scheme trays for rate as follows:]

a. 5-digit/scheme (see 1.4e): optional, but required for 5-digit rate (150-piece minimum); overflow allowed; for Line 1, label as follows:

1. For 5-digit scheme trays, use destination shown in the current USPS City State Product.

2. For 5-digit trays, use city, state, and 5-digit ZIP Code destination on pieces (see 4.0 for overseas military mail).

* * * * *

7.6 Tray Line 2

* * * * *

[Delete items a through c about carrier routes; renumber items d through i as new items a through f.]

* * * * *

246 Enter and Deposit

* * * * *

4.0 Destination Sectional Center Facility (DSCF) Entry

* * * * *

4.2 Eligibility

[Revise 4.2 to allow pieces placed in AADC trays in lieu of in 3-digit trays under 245.7.5 to be eligible for DSCF rates, as follows:]

Pieces in a mailing that meet the standards in 2.0 and 4.0 are eligible for DSCF rates when deposited at a DSCF (or USPS-designated facility); addressed for delivery within that SCF's service area; and placed in a tray that is labeled to that DSCF, to the AADC that includes that DSCF under the preparation option in 245.7.5, or to a postal facility within its service area. See 5.2 for additional DSCF rate eligibility for letters.

* * * * *

5.0 Destination Delivery Unit (DDU) Entry

* * * * *

5.2 Eligibility

[Revise 5.2 to reorganize text and eliminate the DDU entry discount as follows:]

Letter-size mailpieces are not eligible for a destination delivery unit (DDU) discount. Mailers may deposit mail at a DDU under all of the following conditions:

a. Mailers may deposit letter-size pieces that meet the standards in 2.0 and 5.0 at a DDU when:

1. Those pieces are addressed for delivery within that facility's service area (enhanced carrier route only).

2. The pieces are placed in properly prepared and labeled carrier route trays or 5-digit carrier routes trays, or on pallets under 705.8.0.

3. The pieces are eligible for and claimed at a carrier route rate.

b. Letter-size mailpieces eligible for DDU entry under 5.2a are eligible for DSCF rates under either of these conditions:

1. The pieces are prepared with simplified addresses under 602.3.2.

2. Mailers may deposit only one mailing (of fewer than 2,500 pieces) per day. The annual presort mailing fee must be paid at the office of deposit.

* * * * *

300 Discount Mail: Flats

301 Physical Standards

1.0 Physical Standards for Flats

1.1 General Definition of Flat-Size Mail

* * * * *

[Add an exception for Periodicals mail in item b as follows:]

b. Not more than 15 inches long, or more than 12 inches high, or greater than ¾ inch thick, except for Periodicals mail under 707.25.3.

[Replace items c and d with new items c and d as follows:]

c. Rectangular.

d. Other size or weight standards may apply to mail claimed at certain rates, mail addressed to certain APOs and FPOs, and mail sent by the Department of State to U.S. government personnel abroad.

* * * * *

[Insert new 1.3 through 1.6 as follows:]

1.3 Shape

Each flat-size piece must be rectangular. See 2.0 for additional standards by class of mail.

1.4 Flexibility

Flat-size pieces must meet minimum flexibility criteria. Test flexibility as follows:

a. For pieces 10 inches or longer:

1. Place the piece with the length perpendicular to the edge of a flat surface and extend the piece 5 inches off the surface.

2. Press down on the piece at a central point about an inch off the edge of the surface, exerting a steady pressure.

3. The piece is flexible if it can bend at least 2 inches without being damaged.

b. For pieces less than 10 inches long:

1. Place the piece with the length perpendicular to the edge of a flat surface and extend the piece one-half of its length off the surface.

2. Press down on the piece at a central point about an inch off the edge of the surface, exerting a steady pressure.

3. The piece is flexible if it can bend at least 1 inch without being damaged.

[Insert new 1.5 as follows:]

1.5 Uniform Thickness

The contents of a flat-size mailpiece must remain uniformly thick so that the dimensions of the envelope, wrapper, or sleeve remain constant. If the contents are of irregular thickness or significantly smaller than the envelope, wrapper, or sleeve, those contents must be secured to prevent shifting within the wrapping during processing and surrounded with material or padding to ensure that the mailpiece remains uniformly thick.

[Insert new 1.6 as follows:]

1.6 Flat-Size Pieces Not Eligible for Flat-Size Rates

Mailpieces that do not meet the standards in 1.3 through 1.5 are not eligible for flat-size rates and must pay applicable rates as follows:

a. First-Class Mail—parcel rates.

b. Standard Mail—Not Flat-Machinable or parcel rates.

c. Bound Printed Matter—parcel rates.

[Revise the heading of 2.0 to delete “Presorted.”]

2.0 Physical Standards for Nonautomation Flats

2.1 First-Class Mail

[Revise 2.1 as follows:]

These additional standards apply to First-Class Mail flat-size pieces:

a. First-Class Mail cannot exceed 13 ounces. First-Class Mail weighing more than 13 ounces is Priority Mail.

b. Flat-size pieces that do not meet the standards in 1.3 through 1.5 must be prepared as parcels and pay the applicable parcel rate.

* * * * *

2.2 Standard Mail

2.2.1 Basic Physical Standards

[Revise the introductory text as follows:]

These additional standards apply to Standard Mail flat-size pieces:

* * * * *

[Delete item b. Insert new item b as follows:]

b. Flat-size pieces that do not meet the standards in 1.3 through 1.5 must be prepared as parcels or Not Flat-Machinable pieces and pay the parcel or Not Flat-Machinable rates (see 401).

* * * * *

[Delete current Exhibit 2.2.1b.]

* * * * *

2.3 Bound Printed Matter

2.3.1 General Standards

[Delete item c in 2.3.1. Renumber items a and b as new items b and c. Revise the introductory text and insert new item a as follows:]

These additional standards apply to Bound Printed Matter:

a. Flat-size pieces that do not meet the standards in 1.3 through 1.5 must be prepared as parcels and pay the applicable parcel rate.

* * * * *

2.4 Media Mail

* * * * *

[Delete item c. Renumber items a and b as new items b and c. Insert new item a as follows:]

a. Flat-size pieces that do not meet the standards in 1.3 through 1.5 must be prepared as parcels.

* * * * *

2.5 Library Mail

* * * * *

[Delete item c. Renumber items a and b as new items b and c. Insert new item a as follows:]

a. Flat-size pieces that do not meet the flexibility standards in 1.3 through 1.5 must be prepared as parcels.

* * * * *

3.0 Physical Standards for Automation Flats

3.1 Basic Standards for Automation Flats

[Revise 3.1 as follows:]

Flat-size pieces claimed at automation rates must meet the standards in 3.0 and the eligibility standards for the class of mail and rate claimed. Pieces prepared with polywrap film must meet the standards in 3.4.

* * * * *

[Revise heading of 3.3 as follows:]

3.3 Additional Criteria for Automation Flats

[Revise the title and text of 3.3.1 as follows:]

3.3.1 Address Placement on Folded Pieces

Mailers must design folded pieces so that the address is in view when the final folded edge is at the bottom of the piece and any intermediate bound or folded edge is to the right.

3.3.2 Shape and Size

[Revise 3.3.2 to specify the minimum and maximum dimensions as follows:]

Each flat-size piece must be rectangular. The following minimum and maximum dimensions apply to First-Class Mail, Standard Mail, Periodicals (except under 707.25.3), and Bound Printed Matter pieces:

1. Minimum height is 5 inches. Maximum height is 12 inches.

2. Minimum length is 6 inches. Maximum length is 15 inches.

3. Minimum thickness is 0.009 inch. Maximum thickness is 0.75 inch.

* * * * *

[Revise heading and text of 3.3.4 to delete standards for turning ability and add new standards for flexibility as follows:]

3.3.4 Flexibility

An automation flat-size mailpiece must be flexible (see 1.4) and must meet maximum deflection standards. Test deflection as follows:

a. For pieces 10 inches or longer:

1. Place the piece with the length perpendicular to the edge of a flat surface and extend the piece 5 inches off the surface.

2. The piece is automation-compatible if it does not droop more than 4 inches.

b. For pieces less than 10 inches long:

1. Place the piece with the length perpendicular to the edge of a flat surface and extend the piece one-half of its length off the surface.

2. The piece is automation-compatible if it does not droop more than 2 inches.

[Delete 3.4 to remove the standards for UFSM 1000 flats. Renumber 3.5 through 3.9 as new 3.4 through 3.8.]

3.4 Polywrap Coverings

[Revise heading and text of renumbered 3.4.1 as follows:]

3.4.1 Polywrap Films and Similar Coverings

When mailers use polywrap film or similar material to enclose flat-size mailpieces claimed at automation rates, the material must meet the standards in 3.4. Film approved for use under 3.4.5 must meet the specifications in Exhibit 3.4.1 as follows:

a. Films or similar coverings must meet all eight properties in Exhibit 3.4.1.

b. If the address label is affixed to the outside of the polywrap, the haze property (property 2) does not apply.

3.4.2 Wrap Direction and Seam Placement

* * * * *

[Revise item a as follows:]

a. The wrap direction must be around the longer axis of the mailpiece, with the seam parallel to that axis. The longer axis is always parallel to the length of the mailpiece.

[Revise the first sentence in item b as follows:]

b. The preferred seam placement is on the nonaddressed side of the mailpiece. * * *

3.4.3 Overhang

[Revise 3.4.3 by deleting item b and restructuring the text as follows:]

For purposes of the polywrap standards for overhang (selvage) only, the top edge of the mailpiece is one of the two physically longer edges of the piece, regardless of address orientation and whether bound or unbound. Any polywrap overhang (selvage) around the four edges of the mailpiece (top, bottom, and left and right sides) must meet these standards:

a. When the mailpiece contents are totally positioned at the bottom of the polywrap, the overhang must not be more than 0.5 inch at the top of the mailpiece.

b. When the mailpiece contents are totally positioned to the left or to the right side of the polywrap, the overhang must not be more than 1.5 inches on the opposite side.

c. The polywrap covering must not be so tight that it bends the mailpiece.

[Delete 3.4.4.]

* * * * *

3.8 Uniformity and Exterior Format

3.8.1 General

[Revise 3.8.1 by adding a reference to 1.5 in the first sentence as follows:]

A flat-size mailpiece prepared and claimed at automation rates must be uniformly thick (see 1.5). * * *

* * * * *

[Delete 3.8.3 (this information was relocated to 1.5). Renumber 3.8.4 as new 3.8.3.]

* * * * *

302 Elements on the Face of a Mailpiece

* * * * *

2.0 Placement and Content of Mail Markings

2.1 First-Class Mail and Standard Mail Markings

2.1.1 Placement

* * * * *

[Revise items b and b3 as follows:]

b. Other Markings. Mailers may place rate-specific markings as follows:

* * * * *

3. If preceded by two asterisks (**), the “AUTO,” “PRESORTED” (or “PRSRT”), “CUSTOMIZED MARKETMAIL” (or “CUST MKTMAIL” or “CMM”), or “Single-Piece” (or “SNGLP”) markings also may be placed on the line directly above or two lines above the address in a mailer keyline or a manifest keyline, or it may be placed above the address and below the postage in an MLOCR ink-jet printed date correction/meter drop shipment line.

* * * * *

2.1.2 Exceptions to Markings

* * * * *

[Delete “AUTOCR” in item b as follows:]

b. Manifest Mailings. The basic marking must appear in the postage area on each piece. The two-letter rate category code required in the keyline on manifest mailing pieces prepared under 705.2.0 meets the requirement for other rate markings.

* * * * *

330 Discount Flats: First-Class Mail

333 Rates and Eligibility

[We provide the proposed rates and fees for all First-Class Mail services in “Rates and Fees” at the end of this notice, after all of the proposed mailing standards.]

1.0 Rates and Fees for First-Class Mail

1.1 Rate Application

[Revise 1.1 as follows:]

Postage is based on the flat-size rate that applies to the weight of each addressed piece.

* * * * *

3.0 Rate Eligibility for First-Class Mail Flats

* * * * *

3.6 ZIP Code Accuracy

3.6.1 Basic Standards

[Revise 3.6.1 as follows:]

The ZIP Code accuracy standard is a means of ensuring that the ZIP+4 or 5-digit ZIP Code in the delivery address correctly matches the delivery address information. For the purposes of this standard, address means a specific address associated with a specific ZIP+4 or 5-digit ZIP Code. Effective July 2009, mailers of all discount letters, flats, and parcels must properly code and match their address lists using one of the CASS-certified address matching methods in 708.3.0 and use the correct ZIP+4 code on each mailpiece. Mailers are encouraged to begin this practice immediately. Addresses used on pieces claiming discount rates must meet these requirements:

a. Each address and associated ZIP+4 or 5-digit ZIP Code used on the mailpieces in a mailing must be verified and corrected within 12 months before the mailing date with one of the USPS-approved methods in 3.6.2.

b. If an address used on a mailpiece in a mailing at one class of mail and rate is verified and corrected with an approved method, the same address may be used during the following 12 months to meet the ZIP Code accuracy standard required for mailing at any other class of mail and rate.

* * * * *

4.0 Additional Eligibility Standards for Nonautomation First-Class Mail Flats

* * * * *

[Revise the heading and text in 4.3 as follows:]

4.3 Nonmachinable Flat-Size Pieces

Flat-size pieces that do not meet the standards in 301.1.3 through 301.1.5 must be prepared as parcels and pay the applicable parcel rate.

* * * * *

5.0 Additional Eligibility Standards for Automation Rate First-Class Mail Flats

* * * * *

[Delete 5.2 and renumber 5.3 through 5.6 as new 5.2 through 5.5.]

* * * * *

340 Discount Flats: Standard Mail

343 Rates and Eligibility

[We provide the proposed rates and fees for all Standard Mail services in “Rates and Fees” at the end of this notice, after all of the proposed mailing standards.]

* * * * *

3.0 Basic Standards for Standard Mail Flats

* * * * *

3.2 Defining Characteristics

[Revise heading and text of 3.2.1 as follows:]

3.2.1 Mailpiece Weight Limit, Shape, and Flexibility

All Standard Mail pieces must weigh less than 16 ounces. Flat-size pieces that do not meet the standards in 301.1.3 through 301.1.5 must be prepared as parcels or Not Flat-Machinable pieces and pay parcel or Not Flat-Machinable rates (see 401).

* * * * *

3.8 ZIP Code Accuracy

3.8.1 Basic Standards

[Revise the introductory text and item a in 3.8.1 as follows:]

The ZIP Code accuracy standard is a means of ensuring that the ZIP+4 or 5-digit ZIP Code in the delivery address correctly matches the delivery address information. For the purposes of this standard, address means a specific address associated with a specific ZIP+4 or 5-digit ZIP Code. Effective July 2009, mailers of all discount letters, flats, and parcels must properly code and match their address lists using one of the CASS-certified address matching methods in 708.3.0 and use the correct ZIP+4 code on each mailpiece. Mailers are encouraged to begin this practice immediately. Except for mail bearing a simplified address, addresses used on pieces claiming discount rates must meet these requirements:

a. Each address and associated ZIP+4 or 5-digit ZIP Code used on the mailpieces in a mailing must be verified and corrected within 12 months before the mailing date with one of the USPS-approved methods in 3.8.2.

[Delete item b and renumber items c and d as new items b and c.]

* * * * *

4.0 Rate Eligibility for Standard Mail

* * * * *

4.2 Minimum Per Piece Rates

* * * * *

[Revise item b2 to change the rates for Customized MarketMail to the NFM rates as follows:]

2. Pieces mailed as Customized MarketMail under 705.1.0 must pay Regular or Nonprofit Standard Mail 5-digit nonentry rates for Not Flat-Machinable pieces and must not exceed 3.3 ounces.

* * * * *

[Revise heading and text of 4.4 as follows:]

4.4 Rigid Flat-Size Pieces

Flat-size pieces that do not meet the standards in 301.1.3 through 301.1.5 must be prepared as parcels or Not Flat-Machinable pieces and pay parcel or Not Flat-Machinable rates (see 401).

[Revise heading of 5.0 as follows:]

5.0 Additional Eligibility Standards for Nonautomation Standard Mail Flats

* * * * *

[Replace 5.3 and 5.4 with new 5.3 through 5.6 as follows:]

5.3 5-Digit Rates for Flats

The 5-digit rate applies to flat-size pieces:

a. In a 5-digit/scheme bundle of 10 or more pieces, or 15 or more pieces, as applicable; properly placed in a 5-digit/scheme sack containing at least 125 pieces or 15 pounds of pieces.

b. When palletized under 705.8.0 and 705.10.0 through 705.13.0, in a 5-digit/scheme bundle of 10 or more pieces, or 15 or more pieces, as applicable.

c. In a 5-digit bundle of 10 or more pieces, or 15 or more pieces, as applicable; properly placed in a merged 5-digit/scheme or 5-digit sack under 705.10.0.

5.4 3-Digit Rates for Flats

The 3-digit rate applies to flat-size pieces:

a. In a 5-digit/scheme bundle of 10 or more pieces, or 15 or more pieces, as applicable, or in a 3-digit/scheme bundle of 10 or more pieces; properly placed in a 3-digit sack of at least 125 pieces or 15 pounds of pieces.

b. When palletized under 705.8.0 and 705.10.0 through 705.13.0, in a 3-digit/scheme bundle of 10 or more pieces.

5.5 ADC Rates for Flats

ADC rates apply to flat-size pieces:

a. In a 5-digit/scheme, 3-digit/scheme, or ADC bundle of 10 or more pieces properly placed in an ADC sack of at least 125 pieces or 15 pounds of pieces.

b. When palletized under 705.8.0 and 705.10 through 705.13, in an ADC bundle of 10 or more pieces; properly placed on an ADC pallet.

5.6 Mixed ADC Rates for Flats

Mixed ADC rates apply to flat-size pieces in bundles that do not qualify for 5-digit, 3 digit, or ADC rates; placed in mixed ADC sacks or on ASF, BMC, or mixed BMC pallets under 705.8.0.

* * * * *

7.0 Additional Eligibility Standards for Automation Standard Mail Flats

* * * * *

7.2 Rate Application

[Revise 7.2 as follows:]

Automation rates apply to each piece properly sorted into qualifying groups:

a. The 5-digit rate applies to flat-size pieces in a 5-digit/scheme bundle of 10 or more pieces, or 15 or more pieces, as applicable.

b. The 3-digit rate applies to flat-size pieces in a 3-digit/scheme bundle of 10 or more pieces.

c. The ADC rate applies to flat-size pieces in an ADC bundle of 10 or more pieces.

d. The mixed ADC rate applies to flat-size pieces in mixed ADC bundles (no minimum).

* * * * *

345 Mail Preparation

1.0 General Information for Mail Preparation

* * * * *

1.3 Terms for Presort Levels

* * * * *

[Revise the first sentence in items c and K as follows:]

c. 5-digit scheme (bundles and sacks) for flats meeting the automation-compatibility standards in 301.3.0: * * *

* * * * *

k. 3-digit scheme bundles for flats meeting the automation-compatibility standards in 301.3.0: * * *

* * * * *

1.4 Preparation Definitions and Instructions

* * * * *

[Revise item f as follows:]

f. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats, then prepare all possible 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

* * * * *

[Revise item h by replacing “Presorted” with “nonautomation” in the first sentence and “irregular parcels” with “nonmachinable parcels” in the fifth sentence.]

* * * * *

[Revise item n as follows:]

n. A 3-digit scheme sort for flats meeting the automation-compatibility standards in 301.3.0 yields 3-digit scheme bundles for those 3-digit ZIP Codes identified in L008. When standards require 3-digit/scheme sort, mailers must prepare all possible 3-digit scheme bundles of flats, then prepare all possible 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Label mailpieces using an optional endorsement line (OEL) under 708.7.0. Place 3-digit scheme bundles in 3-digit through mixed ADC containers, as applicable, using the OEL “label to” 3-digit ZIP Code.

* * * * *

[Revise 5.0 to change “presorted” flats to “nonautomation” flats throughout.]

5.0 Preparation for Nonautomation Flats

5.1 Basic Standards

* * * * *

[Revise item a as follows:]

a. All pieces must be in the flat-size processing category.

[Revise item b by deleting “AUTOCR.”]

* * * * *

5.3 Bundling and Labeling

[Add a new first sentence to 5.3 as follows:]

Only pieces meeting the automation-compatibility criteria in 301.3.0 may be prepared in 5-digit scheme bundles for those 5-digit ZIP Codes identified in L007 and in 3-digit scheme bundles for those 3-digit ZIP Codes identified in L008. * * *

[Revise items a and b as follows:]

a. 5-digit/scheme (required), see definition in 1.4f.

b. 3-digit/scheme (required), see definition in 1.4n.

* * * * *

5.7 Sacking and Labeling

* * * * *

[Revise item a as follows:]

a. 5-digit/scheme for pieces meeting the automation-compatibility criteria in 301.3.0 (required), see definition in 1.4f; 125-piece or 15-pound minimum; labeling:

1. Line 1: For 5-digit scheme sacks use L007, Column B. For 5-digit sacks, use city, state, and 5-digit ZIP Code destination on pieces. (see 4.2 for overseas military mail).

2. Line 2: For 5-digit scheme sacks, “STD FLTS 5D SCH NON BC.” For 5-digit sacks, “STD FLTS 5D NON BC.”

* * * * *

7.0 Preparation for Automation Rate Flats

[Delete 7.4. Renumber 7.5 through 7.9 as new 7.4 through 7.8.]

7.4 Standard Mail Bundle Preparation

7.4.1 Bundling and Labeling

* * * * *

[Revise item a to require 5-digit/scheme preparation as follows:]

a. 5-digit/scheme (required); see definition in 1.4f * * *

* * * * *

[Delete item b. Renumber item c as new item b and revise to require 3-digit scheme preparation as follows:]

b. 3-digit/scheme (required); see definition in 1.4n * * *

* * * * *

[Delete current item d. Renumber items e and f as new items c and d.]

* * * * *

[Delete renumbered 7.4.2. Renumber 7.4.3 and 7.4.4 as new 7.4.2 and 7.4.3.]

7.4.3 Sacking and Labeling

* * * * *

[Revise item a in renumbered 7.4.3 as follows:]

a. 5-digit/scheme (required containing 5-digit scheme bundles only; see definition in 1.4f); 125-piece or 15-pound minimum, labeling:

1. Line 1: For 5-digit scheme sacks use L007, Column B. For 5-digit sacks use city, state, and 5-digit ZIP Code on mail (see 4.2 for overseas military mail).

2. Line 2: For 5-digit scheme sacks, “STD FLTS 5D SCH BC.” For 5-digit sacks, “STD FLTS 5D BC.”

[Delete item b. Renumber items c though f as items b through e.]

* * * * *

[Delete current 7.6; renumber current 7.7 through 7.9 as new 7.5 through 7.7 Revise renumbered 7.5 through 7.7 by replacing “presorted” with “nonautomation” throughout.]

7.7 Exception—Automation and Nonautomation Pieces on Pallets

[Replace “nonletter” with “flat-size” throughout renumbered 7.7.]

* * * * *

360 Discount Flats: Bound Printed Matter

[Incorporate the standards for Bound Printed Matter in 160 into 360. Make revisions throughout to change single-piece Bound Printed Matter to “nonpresorted” Bound Printed Matter and make following additional changes:]

363 Rates and Eligibility

[We provide the proposed rates and fees for all Bound Printed Matter services in “Rates and Fees” at the end of this notice, after all of the proposed mailing standards.]

1.0 Rates and Fees for Bound Printed Matter

* * * * *

[Renumber 1.3 through 1.5 as new 1.4 through 1.6. Insert new 1.3 as follows:]

1.3 Nonpresorted Bound Printed Matter Rates

Flat-size pieces that do not meet the standards in 301.1.3 through 301.1.5 must pay the applicable parcel rate based on weight and zone.

[Revise the heading of renumbered 1.4 as follows:]

1.4 Discount Bound Printed Matter Rates

* * * * *

[Insert new 1.4.3 as follows:]

1.4.3 Rigid Flat-Size Pieces

Flat-size pieces that do not meet the standards in 301.1.3 through 301.1.5 must be prepared as parcels and pay the applicable parcel rate based on weight and zone.

* * * * *

3.0 Basic Standards for Bound Printed Matter Flats

* * * * *

3.3 ZIP Code Accuracy

3.3.1 Basic Standards

[Revise the introductory text and item a in 3.3.1 as follows:]

The ZIP Code accuracy standard is a means of ensuring that the ZIP+4 or 5-digit ZIP Code in the delivery address correctly matches the delivery address information. For the purposes of this standard, address means a specific address associated with a specific ZIP+4 or 5-digit ZIP Code. Effective July 2009, mailers of all discount letters, flats, and parcels must properly code and match their address lists using one of the CASS-certified address matching methods in 708.3.0 and use the correct ZIP+4 code on each mailpiece. Mailers are encouraged to begin this practice immediately. Except for mail bearing a simplified address, addresses used on pieces claiming discount rates must meet these requirements:

a. Each address and associated ZIP+4 or 5-digit ZIP Code used on the mailpieces in a mailing must be verified and corrected within 12 months before the mailing date with one of the USPS-approved methods in 3.3.2.

[Delete item b and renumber items c and d as new items b and c.]

* * * * *

365 Mail Preparation

1.0 General Information for Mail Preparation

* * * * *

1.3 Terms for Presort Levels

* * * * *

[Revise the first sentence in items c and h as follows:]

c. 5-digit scheme (bundles and sacks) for flats meeting the automation-compatibility standards in 301.3.0: * * *

* * * * *

h. 3-digit scheme bundles for flats meeting the automation-compatibility standards in 301.3.0: * * *

* * * * *

1.4 Preparation Definitions and Instructions

* * * * *

[Revise item e for 5-digit scheme sort as follows:]

e. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

* * * * *

[Revise item g for 3-digit scheme sort as follows:]

g. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an optional endorsement line (OEL) under 708.7.0. Three-digit scheme bundles are placed in 3-digit through mixed ADC containers, as applicable, using the OEL “label to” 3-digit ZIP Code.

* * * * *

5.0 Preparation for Presorted Flats

* * * * *

5.2 Bundling

* * * * *

5.2.2 Bundling and Labeling

[Add a new first sentence to 5.2.2 as follows:]

Only pieces meeting the automation-compatibility criteria in 301.3.0 may be prepared in 5-digit scheme bundles for those 5-digit ZIP Codes identified in L007 and in 3-digit scheme bundles for those 3-digit ZIP Codes identified in L008. * * *

[Revise items a and b to make 5-digit and 3-digit schemes required as follows:]

a. 5-digit scheme (required); red Label 5 or optional endorsement line (OEL). See definition in 1.4e.

b. 3-digit scheme (required); green Label 3 or OEL. See definition in 1.4g.

5.3 Sacking

* * * * *

5.3.5 Sacking and Labeling

* * * * *

[Revise items a and a1 as follows:]

a. 5-digit/scheme for pieces meeting the automation-compatibility criteria in 301.3.0 (see 1.4e) (required), minimum 20 addressed pieces; labeling:

1. Line 1: For 5-digit scheme sacks, use L007, Column B. For 5-digit sacks, use city, state, and 5-digit ZIP Code on mail (see 4.5 for overseas military mail).

2. Line 2: For 5-digit scheme sacks, “ PSVC FLTS 5D SCH NON BC.” For 5-digit sacks, “PSVC FLTS 5D NON BC.”

* * * * *

7.0 Preparation for Barcoded Flats

* * * * *

7.3 Bundling

* * * * *

7.3.2 Bundle Preparation

* * * * *

[Revise items a and b as follows to make 5-digit and 3-digit schemes required. Delete item d and renumber items e and f as new items d and e.]

a. 5-digit/scheme: (required); minimum 10 pieces or 10 pounds, maximum weight 20 pounds; optional endorsement line (OEL) required. See definition in 1.4e.

b. 3-digit/scheme (required); minimum 10 pieces or 10 pounds, maximum weight 20 pounds; OEL required. See definition in 1.4g.

* * * * *

7.3.3 Scheme Bundle Preparation

[Revise 7.3.3 as follows:]

See 1.4e and 1.4g for additional standards for pieces prepared in scheme bundles.

7.4 Sacking

7.4.1 Sack Preparation and Labeling

* * * * *

[Revise item a as follows. Delete item b and renumber items c through f as new items b through e.]

a. 5-digit/scheme (see 1.4e) (required), minimum 20 addressed pieces; labeling:

1. Line 1: For 5-digit scheme sacks, use L007, Column B. For 5-digit sacks, use city, state, and 5-digit ZIP Code on mail (see 4.2 for overseas military mail).

2. Line 2: “PSVC FLTS 5D SCH BC.”

* * * * *

366 Enter and Deposit

1.0 Presenting a Mailing

[Revise the heading of 1.1 as follows:]

1.1 Verification and Entry—Presorted, Carrier Route, Destination Entry, and Barcoded Mailings

* * * * *

[Renumber 1.2 through 1.5 as new 1.3 through 1.6. Insert new 1.2 as follows:]

1.2 Verification and Entry—Nonpresorted Mailings

Nonpresorted rate Bound Printed Matter is not offered at post offices, branches, stations, or through Postal Service carriers, except under 1.2c and 1.2d. Mailers must deposit Nonpresorted Bound Printed Matter as follows:

a. At the time and place specified by the postmaster at the office of mailing.

b. For metered mail, at other than the licensing post office only as permitted under 705.17.0, Metered Mail Drop Shipment.

c. For permit imprint mail, only at the post office where the permit is held (see 604.5.0).

d. At any post office, branch, or station, or with a Postal Service carrier, if the correct postage is applied, including postage for any extra service elected.

* * * * *

370 Discount Flats: Media Mail

373 Rates and Eligibility

[We provide the proposed rates and fees for all Media Mail services in “Rates and Fees” at the end of this notice, after all of the proposed mailing standards.]

1.0 Rates and Fees for Media Mail

* * * * *

[Renumber 1.3 through 1.5 as new 1.4 through 1.6. Insert new 1.3 as follows:]

1.3 Rigid Flat-Size Pieces

Flat-size pieces that do not meet the standards in 301.1.3 through 301.1.5 must be prepared as parcels and pay the applicable parcel rate based on weight and entry.

* * * * *

375 Mail Preparation

1.0 General Information for Mail Preparation

* * * * *

1.3 Terms for Presort Levels

* * * * *

[Renumber item b as new item c. Insert new item b for 5-digit scheme sort as follows:]

b. 5-digit scheme (bundles and sacks) for flats meeting the automation-compatibility standards in 301.3.0: the ZIP Code in the delivery address on all pieces begins with one of the 5-digit ZIP Code zones processed by the USPS as a single scheme, as shown in L007.

* * * * *

[Renumber items d and f as new items e and g. Insert new item d for 3-digit scheme sort as follows:]

d. 3-digit scheme bundles for flats meeting the automation-compatibility standards in 301.3.0: the ZIP Code in the delivery address on all pieces begins with one of the 3-digit ZIP Code zones processed by the USPS as a single scheme, as shown in L008.

* * * * *

1.4 Preparation Definitions and Instructions

* * * * *

[Renumber items c through f as new items e through h. Insert new items c and d for 5-digit and 3-digit scheme sorts as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

d. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an optional endorsement line (OEL) under 708.7.0. Place 3-digit scheme bundles in 3-digit through mixed ADC containers, as applicable, using the OEL “label to” 3-digit ZIP Code.

* * * * *

5.0 Preparation for Presorted Flats

* * * * *

5.2 Bundling

* * * * *

5.2.2 Bundling and Labeling

[Add a new first sentence to 5.2.2 as follows:]

Only pieces meeting the automation-compatibility criteria in 301.3.0 may be prepared in 5-digit scheme bundles for those 5-digit ZIP Codes identified in L007 and in 3-digit scheme bundles for those 3-digit ZIP Codes identified in L008. * * *

[Revise items a and b to make 5-digit and 3-digit schemes required as follows:]

a. 5-digit/scheme (optional, but required for 5-digit rate); red Label 5 or optional endorsement line (OEL). See definition in 1.4c.

b. 3-digit/scheme (required); green Label 3 or OEL. See definition in 1.4d.

5.3 Sacking

* * * * *

5.3.2 Sacking and Labeling

* * * * *

[Revise item a as follows:]

a. 5-digit/scheme for pieces meeting the automation-compatibility criteria in 301.3.0 (see 1.4c) (optional, but required for 5-digit rate), minimum 10 addressed pieces; labeling:

1. Line 1: For 5-digit scheme sacks, use L007, Column B. For 5-digit sacks, use city, state, and 5-digit ZIP Code on mail (see 4.5 for overseas military mail).

2. Line 2: For 5-digit scheme sacks, “ PSVC FLTS 5D SCH NON BC.” For 5-digit sacks, “PSVC FLTS 5D NON BC.”

* * * * *

380 Discount Flats: Library Mail

383 Rates and Eligibility

[We provide the proposed rates and fees for all Library Mail services in “Rates and Fees” at the end of this notice, after all of the proposed mailing standards.]

1.0 Rates and Fees for Library Mail

* * * * *

[Renumber 1.3 through 1.5 as new 1.4 through 1.6. Insert new 1.3 as follows:]

1.3 Rigid Flat-Size Pieces

Flat-size pieces that do not meet the standards in 301.1.3 through 301.1.5 must be prepared as parcels and pay the applicable parcel rate based on weight and entry.

* * * * *

385 Mail Preparation

1.0 General Information for Mail Preparation

* * * * *

1.3 Terms for Presort Levels

* * * * *

[Renumber item b as new item c. Insert new item b for 5-digit scheme sort as follows:]

b. 5-digit scheme (bundles and sacks) for flats meeting the automation-compatibility standards in 301.3.0: the ZIP Code in the delivery address on all pieces begins with one of the 5-digit ZIP Code zones processed by the USPS as a single scheme, as shown in L007.

* * * * *

[Renumber items d and f as new items e and g. Insert new item d for 3-digit scheme sort as follows:]

d. 3-digit scheme bundles for flats meeting the automation-compatibility standards in 301.3.0: the ZIP Code in the delivery address on all pieces begins with one of the 3-digit ZIP Code zones processed by the USPS as a single scheme, as shown in L008.

* * * * *

1.4 Preparation Definitions and Instructions

* * * * *

[Renumber items c through f as new items e through h. Insert new items c and d for 5-digit and 3-digit scheme sorts as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

d. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an optional endorsement line (OEL) under 708.7.0. Place 3-digit scheme bundles in 3-digit through mixed ADC containers, as applicable, using the OEL “label to” 3-digit ZIP Code.

* * * * *

5.0 Preparation for Presorted Flats

* * * * *

5.2 Bundling

* * * * *

5.2.2 Bundling and Labeling

[Add a new first sentence to 5.2.2 as follows:]

Only pieces meeting the automation-compatibility criteria in 301.3.0 may be prepared in 5-digit scheme bundles for those 5-digit ZIP Codes identified in L007 and in 3-digit scheme bundles for those 3-digit ZIP Codes identified in L008. * * *

[Revise items a and b as follows to make 5-digit and 3-digit schemes required:]

a. 5-digit scheme (optional, but required for 5-digit rate); red Label 5 or optional endorsement line (OEL). See definition in 1.4c.

b. 3-digit scheme (required); green Label 3 or OEL. See definition in 1.4d.

5.3 Sacking

* * * * *

5.3.2 Sacking and Labeling

* * * * *

[Revise items a and a1 as follows:]

a. 5-digit/scheme for pieces meeting the automation-compatibility criteria in 301.3.0 (see 1.4c) (optional, but required for 5-digit rate), minimum 10 addressed pieces; labeling:

1. Line 1: For 5-digit scheme sacks, use L007, Column B. For 5-digit sacks, use city, state, and 5-digit ZIP Code on mail (see 4.5 for overseas military mail).

2. Line 2: For 5-digit scheme sacks, “ PSVC FLTS 5D SCH NON BC.” For 5-digit sacks, “ PSVC FLTS 5D NON BC.”

* * * * *

400 Discount Mail: Parcels

[Change the terminology from “irregular” parcels to “nonmachinable” parcels and from “IRREG” to “NON MACH” throughout 400.]

401 Physical Standards

1.0 Physical Standards for Parcels

[Revise the heading of 1.1 as follows:]

1.1 Processing Categories

[Revise the first sentence of 1.1 as follows:]

USPS categorizes parcels into one of three mail processing categories: machinable, nonmachinable, or outside parcel. * * *

* * * * *

1.5 Machinable Parcels

* * * * *

[Delete 1.5.4, Exclusions.]

* * * * *

2.0 Additional Physical Standards by Class of Mail

2.1 First-Class Mail Parcels

* * * * *

[Delete current 2.1.2 and replace with new 2.1.2 as follows:]

2.1.2 Surcharge

Unless prepared in 5-digit sacks or paid at a single-piece rate, presorted parcels are subject to a $0.05 surcharge if any of the following characteristics apply:

a. The parcels do not bear a UCC/EAN 128 or POSTNET barcode.

b. The parcels weigh less than 2 ounces.

c. The parcels are irregularly shaped, such as rolls, tubes, and triangles.

[Revise the heading of 2.2 as follows:]

2.2 Standard Mail Parcels and Not Flat-Machinable Pieces

[Revise heading and text of 2.2.1 as follows:]

2.2.1 Additional Physical Standards

Each piece must weigh less than 16 ounces.

[Revise heading and text of 2.2.2 as follows:]

2.2.2 Not Flat-Machinable Pieces

Rectangular Standard Mail pieces with any of the following characteristics must be prepared as Not Flat-Machinable (NFM) pieces or as parcels:

a. Rigid pieces that do not meet the flexibility criteria in 301.1.4.

b. Pieces over 15 inches long, up to a maximum of 15¾ inches long.

c. Pieces over 3/4 inch thick, up to a maximum of 1¼ inches thick.

d. Pieces less than either 5 inches high or 6 inches long (but no less than 4 inches high or 4 inches long) and between ¼ and 1¼ inches thick.

e. Nonmachinable letter-size pieces weighing more than 3.3 ounces, unless they qualify to be mailed as flats.

[Delete current 2.2.3 and replace with new 2.2.3 as follows:]

2.2.3 Surcharge

Unless prepared in 5-digit/scheme containers, Standard Mail parcels and Not Flat-Machinable pieces are subject to a $0.05 surcharge if:

a. The machinable or nonmachinable parcels do not bear a UCC/EAN 128 barcode.

b. The Not Flat-Machinable pieces weigh 6 ounces or more and do not bear a UCC/EAN 128 barcode.

c. The Not Flat-Machinable pieces weigh less than 6 ounces and do not bear a UCC/EAN 128 or POSTNET barcode.

2.3 Parcel Post

2.3.1 General Standards

* * * * *

[Revise item b as follows:]

b. An item weighing less than 20 pounds but measuring more than 84 inches (but not more than 108 inches) in combined length and girth is charged the rate for a 20-pound parcel for the zone to which it is addressed (balloon rate).

* * * * *

402 Elements on the Face of a Mailpiece

* * * * *

2.0 Placement and Content of Markings

2.1 First-Class Mail and Standard Mail Markings

2.1.1 Placement

* * * * *

[Renumber item c as new item d. Insert new item c as follows:]

c. Mark each NFM “NOT FLAT-MACHINABLE” or “NFM” in capital letters, either by including the marking in the optional endorsement line or by placing the marking immediately to the left of or below the postage area. See 402.2.1.1.

* * * * *

430 Discount Parcels: First-Class Mail

433 Rates and Eligibility

[We provide the proposed rates and fees for all First-Class Mail services in “Rates and Fees” at the end of this notice, after all of the proposed mailing standards.]

1.0 Rates and Fees for First-Class Mail

* * * * *

[Revise 1.4 to change heading and text describing the surcharge as follows:]

1.4 Surcharge

Unless prepared in 5-digit/scheme sacks or paid at the single-piece rates, presorted parcels are subject to a $0.05 surcharge if any of the following characteristics apply:

a. The parcels weigh less than 2 ounces.

b. The parcels do not bear a UCC/EAN 128 or POSTNET barcode.

c. The parcels are irregularly shaped, such as rolls, tubes, and triangles.

* * * * *

[Insert new 4.0 to describe Presorted parcel rates as follows:]

4.0 Rate Eligibility for Presorted First-Class Mail Parcels

4.1 5-Digit Rate

The 5-digit rate applies to presorted parcels in a 5-digit/scheme sack containing at least 10 pounds of parcels.

4.2 3-Digit Rate

The 3-digit rate applies to presorted parcels in a 3-digit sack containing at least 10 pounds of parcels.

4.3 ADC Rate

The ADC rate applies to presorted parcels in an ADC sack containing at least 10 pounds of parcels.

4.4 Single-Piece Rate

The single-piece rate applies to presorted parcels in a mixed ADC sack.

434 Postage Payment and Documentation

* * * * *

2.0 Postage Payment for Presorted Parcels

* * * * *

2.2 Affixed Postage for Presorted First-Class Mail

* * * * *

[Revise item b to remove “nonmachinable surcharge” as follows:]

b. A precanceled stamp or the full postage at the lowest First-Class Mail 1-ounce rate applicable to the mailing job, and full postage on metered pieces for additional ounce(s) or extra services.

* * * * *

435 Mail Preparation

1.0 General Information for Mail Preparation

* * * * *

1.2 Definition of Mailings

* * * * *

[Delete item b. Move item a into introductory text.]

* * * * *

1.3 Terms for Presort Levels

* * * * *

[Renumber items a through e as new items b through f. Insert new item a as follows:]

a. 5-digit scheme for First-Class Mail parcels: the ZIP Code in the delivery address on all pieces begins with one of the 5-digit ZIP Code zones processed by the USPS as a single scheme, as shown in L606.

* * * * *

1.4 Preparation Definitions and Instructions

* * * * *

[Revise item d as follows:]

d. The required quantity (for example, “required at 10 pieces”) means that the unit must be prepared for the corresponding presort level whenever the specified quantity of mail is reached or exceeded. Smaller quantities may be prepared only if permitted by the standards for each rate.

* * * * *

[Delete item g. Renumber item h as new item g and revise as follows:]

g. A “logical” presort destination represents the total number of pieces that are eligible for a specific presort level based on the required sortation, but which might not be contained in a single container (sack or pallet) due to applicable preparation requirements or the size of the individual pieces.

* * * * *

[Delete 2.0, Bundles, and renumber 3.0 through 5.0 as new 2.0 through 4.0.]

* * * * *

3.0 Sack Labels

* * * * *

3.4 Line 2 (Content Line)

[Revise the table in renumbered 3.4 to delete the entries for “General Delivery Unit,” “Highway Contract Route,” “Post Office Box Section”, and “Rural Route.”]

* * * * *

[Revise the heading in renumbered 4.0 as follows:]

4.0 Preparation for Presorted Parcels

* * * * *

[Revise heading and text in 4.3 to remove bundling requirement as follows:]

4.3 Bundling

Bundling is not permitted.

* * * * *

4.4 Sacking and Labeling

* * * * *

[Revise item a as follows:]

a. 5-digit/scheme (required; see definition in 1.3a); 10-pound minimum, labeling:

1. Line 1: For 5-digit scheme sacks use L606, Column B. For 5-digit sacks use city, state, and 5-digit ZIP Code on mail (see 4.3c for overseas military mail).

2. Line 2: For 5-digit scheme sacks, “FCM PARCELS 5D SCH.” For 5-digit sacks, “FCM PARCELS 5D.”

* * * * *

440 Discount Parcels: Standard Mail

443 Rates and Eligibility

[We provide the proposed rates and fees for all Standard Mail services in “Rates and Fees” at the end of this notice, after all of the proposed mailing standards.]

* * * * *

4.0 Rate Eligibility for Standard Mail

4.1 General Information

[Revise 4.1 by deleting reference to barcode discount and reorganizing text as follows:]

All Standard Mail rates are Presorted rates. These rates apply to mailings meeting the basic standards in 2.0 through 4.0 and the corresponding standards for Presorted rates under 5.0 or Enhanced Carrier Route rates under 6.0. Destination entry discount rates are available under 446.2.0 through 446.5.0 in Enter and Deposit. Pieces are subject to either a single minimum per piece rate or a combined piece/pound rate, depending on the weight of the individual pieces in the mailing under 4.2 or 4.3. Only organizations authorized by the USPS under 703.1.0 may mail at Nonprofit rates.

4.2 Minimum Per Piece Rates

* * * * *

[Revise item b by deleting the text that does not apply to parcels as follows:]

b. In applying the minimum per piece rates, a mailpiece is categorized as a parcel based on the standards in 401, Physical Standards.

[Revise item c by deleting the text that does not apply to parcels and by adding 5-digit rate mail as eligible for DDU rates as follows:]

c. Individual Rates. There are separate minimum per piece rates for each subclass (Regular, Enhanced Carrier Route, Nonprofit, and Nonprofit Enhanced Carrier Route) and within each subclass for the level of presort within each mailing. Mailers may claim discounted rates for destination entry mailings under 446.2.0 through 446.5.0 in Enter and Deposit. DDU rates are available for parcels and Not Flat-Machinable pieces entered at 5-digit, Enhanced Carrier Route, or Nonprofit Enhanced Carrier Route rates. See 1.0, Rates and Fees for Standard Mail, for individual per piece rates.

* * * * *

[Revise the heading and text of 4.4 as follows:]

4.4 Surcharge

Unless prepared in 5-digit/scheme containers, Standard Mail parcels and Not Flat-Machinable pieces are subject to a $0.05 surcharge if:

a. The machinable or nonmachinable parcels do not bear a UCC/EAN 128 barcode.

b. The Not Flat-Machinable pieces weigh 6 ounces or more and do not bear a UCC/EAN 128 barcode.

c. The Not Flat-Machinable pieces weigh less than 6 ounces and do not bear a UCC/EAN 128 or POSTNET barcode.

[Delete 4.5 and renumber 4.6 as new 4.5.]

4.5 Extra Services for Standard Mail

* * * * *

4.5.2 Eligible Matter

[Revise renumbered 4.5.2 as follows:]

Extra services may be used only with pieces mailed at machinable or nonmachinable parcel rates.

4.5.3 Ineligible Matter

* * * * *

[Revise item a as follows:]

a. Pieces entered as letters, flats, or NFMs.

* * * * *

[Revise the heading of 5.0 as follows:]

5.0 Additional Eligibility Standards for Presorted Standard Mail Pieces

* * * * *

5.2 Rate Application

[Revise 5.2 to add Not Flat-Machinable pieces and to note separate rates as follows:]

Rates for Regular and Nonprofit Standard Mail apply separately to machinable parcels, nonmachinable parcels, and Not Flat-Machinable pieces that meet the eligibility standards in 2.0 through 4.0 and the preparation standards in 445.5.0, Preparation, or 705.8.0, Preparation for Pallets.

[Delete 5.3 through 5.5. Insert new 5.3 for machinable parcel rates as follows:]

5.3 Rates for Machinable Parcels

5.3.1 5-Digit Rate

The 5-digit rate applies to qualifying machinable parcels presented:

a. In a 5-digit/scheme (L606) sack containing at least 10 pounds of parcels.

b. On a 5-digit pallet, according to standards in 705.8.10.

c. As one or more parcels that mailers drop ship to a DDU under 446.5.2.

5.3.2 BMC Rate

The BMC rate applies to qualifying machinable parcels presented:

a. In an ASF or BMC sack containing at least 10 pounds of parcels.

b. On an ASF or BMC pallet, according to standards in 705.8.10.

5.3.3 Mixed BMC Rate

The mixed BMC rate applies to machinable parcels that are not eligible for 5-digit or BMC rates. Place machinable parcels at mixed BMC rates in mixed BMC sacks under 445.5.3.2 or on mixed BMC pallets under 705.8.10.

[Insert new 5.4 for nonmachinable parcel rates as follows:]

5.4 Rates for Nonmachinable Parcels

5.4.1 5-Digit Rate

The 5-digit rate applies to nonmachinable parcels (see 401.1.6) presented:

a. In a 5-digit/scheme (L606) sack containing at least 10 pounds of parcels.

b. On a 5-digit/scheme (L606) pallet, according to 705.8.10.

c. As one or more parcels that mailers drop ship to a DDU under 446.5.2.

5.4.2 3-Digit Rate

The 3-digit rate applies to nonmachinable parcels (see 401.1.6) presented:

a. In a 3-digit sack containing at least 10 pounds of parcels.

b. On a 3-digit pallet, according to 705.8.10.

5.4.3 ADC Rate

The ADC rate applies to nonmachinable parcels (see 401.1.6) presented:

a. In an ADC sack containing at least 10 pounds of parcels.

b. On an ADC pallet, according to 705.8.10.4.

5.4.4 Mixed ADC Rate

The mixed ADC rate applies to nonmachinable parcels (see 401.1.6) in mixed ADC sacks.

[Insert new 5.5 for Not Flat-Machinable rates as follows:]

5.5 Rates for Not Flat-Machinable (NFM) Pieces

5.5.1 5-Digit Rate

The 5-digit rate applies to NFM pieces presented:

a. In a 5-digit/scheme sack of 10 or more pounds of pieces (bundling not permitted).

b. In 5-digit bundles of five or more pieces on pallets or in pallet boxes under 705.8.0.

c. As one or more pieces that mailers drop ship to a DDU under 446.5.0.

5.5.2 3-Digit Rates

The 3-digit rate applies to NFM pieces in 3-digit containers.

5.5.3 ADC Rate

The ADC rate applies to NFM pieces in ADC or ASF/BMC containers.

5.5.4 Mixed ADC Rate

The mixed ADC rate applies to NFM pieces in mixed ADC or mixed BMC containers.

* * * * *

445 Mail Preparation

1.0 General Information for Mail Preparation

* * * * *

1.4 Preparation Definitions and Instructions

* * * * *

[Revise item c to require 5-digit/scheme sort for rate eligibility as follows:]

c. A 5-digit/scheme sort for Standard Mail parcels yields 5-digit scheme sacks or pallets for those 5-digit ZIP Codes listed in L606 and 5-digit sacks or pallets for other ZIP Codes. When standards require 5-digit/scheme sort, mailers must prepare all possible 5-digit scheme sacks, then prepare all possible 5-digit sacks. The 5-digit ZIP Codes in each scheme are treated as a single presort destination subject to a single minimum volume (if required), with no further separation by 5-digit ZIP Code required. Sacks or pallets prepared for a 5-digit scheme destination that contain pieces for only one of the schemed 5-digit ZIP Codes are still considered 5-digit scheme sorted and are labeled accordingly.

* * * * *

2.0 Bundles

2.1 Definition of a Bundle

[Add a new fifth sentence to restrict bundling as follows:]

* * * Bundling under 445 is allowed only for carrier route bundles of parcels and 5-digit bundles of Not Flat-Machinable pieces placed on pallets or in pallet boxes (see 6.0). * * *

* * * * *

5.0 Preparation for Presorted Parcels

* * * * *

5.3 Preparation of Machinable Parcels

5.3.1 5-Digit Sacks

[Revise 5.3.1 to change the preparation of 5-digit/scheme sacks containing both machinable and nonmachinable parcels (or also containing Not Flat-Machinable pieces) to be that for machinable parcels, and to require 5-digit scheme sorting when claiming 5-digit rates, as follows:]

Mailers must prepare all possible 5-digit/scheme sacks in a mailing that includes pieces claimed at the 5-digit rate. If mailers do not prepare all 5-digit/scheme sacks when there are 10 pounds or more of mail for a destination, they may not claim the 5-digit rate for any part of the mailing. Mailers choosing to combine the preparation of either nonmachinable parcels or Not Flat-Machinable pieces (see 401.2.2.3) weighing 6 ounces or more with machinable parcels placed in 5-digit/scheme sacks must prepare those sacks under 5.3.2. Mailers choosing to combine the preparation of Not Flat-Machinable pieces weighing 6 ounces or more with machinable parcels placed in ASF, BMC, or mixed BMC sacks must prepare the sacks under 5.3.2. There is no minimum for parcels prepared in 5-digit/scheme sacks entered at a DDU.

5.3.2 Sacking and Labeling

* * * * *

[Revise item a to add the requirement of 5-digit/scheme sorting for pieces claiming the 5-digit rate as follows:]

a. 5-digit/scheme (optional, but required for 5-digit rate), see definition in 1.4c; 10-pound minimum except under 5.3.1; labeling:

1. Line 1: For 5-digit scheme sacks, use L606, Column B. For 5-digit sacks, use city, state, and 5-digit ZIP Code destination on pieces (see 4.0 for overseas military mail).

2. Line 2: “STD MACH 5D SCHEME” or “STD MACH 5D SCH.”

[Delete item b; renumber items c through e as new items b through d.]

* * * * *

5.4 Preparation of Nonmachinable Parcels

[Delete 5.4.1 and 5.4.2; renumber 5.4.3 through 5.4.8 as new 5.4.1 through 5.4.6. Revise heading and text of renumbered 5.4.1 to restrict bundling of nonmachinable parcels as follows:]

5.4.1 Bundling

Bundling is not permitted, except for bundles of carrier route parcels under 6.0.

* * * * *

5.4.3 Loose Packing

[Revise renumbered 5.4.3 to delete the advance approval requirement to loose pack as follows:]

When placing nonmachinable parcels in sacks, mailers must face and pack the parcels to maintain their orientation in transit.

5.4.4 Required Sacking

[Revise renumbered 5.4.4 to change the minimum quantity per sack from 15 pounds to 10 pounds and to add NFMs as follows:]

Mailers must prepare a sack when the quantity of mail for a required presort destination reaches 10 pounds of parcels. There is no minimum for parcels prepared in 5-digit/scheme sacks entered at a DDU. Mailers choosing to combine the preparation of nonmachinable parcels with machinable parcels placed in 5-digit/scheme sacks must prepare those sacks under 5.3.2. Mailers may not prepare sacks containing nonmachinable and machinable parcels to other presort levels. Mailers may combine nonmachinable parcels with Not Flat-Machinable pieces weighing less than 6 ounces in sacks under 5.4.6.

* * * * *

5.4.6 Sacking and Labeling

* * * * *

[Revise item a to require 5-digit/scheme sacks and to change minimum quantity to 10 pounds as follows:]

a. 5-digit/scheme (optional, but required for 5-digit rate), 10-pound minimum, except when entered at a DDU; labeling:

1. For 5-digit scheme sacks, use L606, Column B. For 5-digit sacks, use city, state, and 5-digit ZIP Code on mail (see 4.3 for overseas military mail).

2. For Line 2, “STD NONMACH 5D SCH” or “STD NONMACH 5D.”

[Delete item b. Renumber item c as new item b and revise as follows:]

b. 3-digit (required); 10-pound minimum; for nonmachinable parcels only:

1. For Line 1, L002, Column A.

2. For Line 2, “STD NONMACH 3D.”

[Delete item d and renumber items e and f as new items c and d. Revise new item c as follows:]

c. ADC (required); 10-pound minimum; labeling:

1. Line 1: L603, Column B.

2. Line 2: “STD NON MACH ADC.”

[Revise new item d as follows:]

d. Mixed ADC (required); no minimum; labeling:

1. Line 1: L604, Column B.

2. Line 2: “STD NON MACH WKG.”

[Renumber 6.0 as 7.0. Insert new 6.0 for preparation of NFM pieces as follows:]

6.0 Preparation for Not Flat-Machinable Pieces

6.1 Basic Standards

All mailings at Regular Standard Mail and Nonprofit Standard Mail Presorted rates for NFM pieces are subject to the general preparation standards in 1.0 through 4.0. Prepare NFM pieces (see 301.2.2.3) according to the standards in 6.0 unless commingled with parcels under 445.5.3. Mark NFM pieces according to the standards in 402.2.1.1.

6.2 Bundling

Mailers may make 5-digit bundles of at least five pieces when placed on pallets or in pallet boxes under 705.8.0. No other NFM bundling is permitted.

6.3 Sacking and Labeling

6.3.1 General

Mailers may combine NFM pieces with parcels in 5-digit/scheme sacks under 445.5.3. See 6.3.2 for NFM pieces that weigh less than 6 ounces; see 6.3.3 for NFM pieces that weigh 6 ounces or more.

6.3.2 NFM Pieces Weighing Less Than 6 Ounces

Preparation sequence, sack size, and labeling for sacks of NFM pieces that weigh less than 6 ounces:

a. 5-digit/scheme (optional, but required for 5-digit rate); see definition in 445.1.4c; 10-pound minimum, except when dropshipped to a DDU (no minimum); labeling:

1. Line 1: For 5-digit scheme sacks, use L606, Column B. For 5-digit sacks, use city, state, and 5-digit ZIP Code destination on pieces (see 4.0 for overseas military mail).

2. Line 2: “STD NFM 5D SCH.”

b. 3-digit (optional, but required for 3-digit rate); 10-pound minimum; labeling:

1. Line 1: Use L002, Column A.

2. Line 2: “STD NFM 3D.”

c. ADC (required); 10-pound minimum; labeling:

1. Line 1: Use L004, Column B.

2. Line 2: “STD NFM ADC.”

d. Mixed ADC (required); no minimum; labeling:

1. Line 1: Use L009, Column B.

2. Line 2: “STD NFM WKG.”

6.3.3 NFM Pieces Weighing 6 Ounces or More

Preparation sequence, sack size, and labeling for sacks of NFM pieces that weigh less than 6 ounces:

a. 5-digit/scheme (required); see definition in 445.1.4c; 10-pound minimum, except when dropshipped to a DDU (no minimum); labeling:

1. Line 1: For 5-digit scheme sacks, use L606, Column B. For 5-digit sacks, use city, state, and 5-digit ZIP Code destination on pieces (see 4.0 for overseas military mail).

2. Line 2: “STD NFM 5D SCH.”

b. ASF (optional), permitted only for mail deposited at an ASF to claim DBMC rate; 10-pound minimum; labeling:

1. Line 1: L602, Column B. DBMC rate eligibility determined by Exhibit 446.3.1, BMC/ASF—DMBC Rate Eligibility.

2. Line 2: “STD NFM ASF.”

c. BMC (required); 10-pound minimum; labeling:

1. Line 1: L601, Column B. DBMC rate eligibility determined by Exhibit 446.3.1, BMC/ASF—DMBC Rate Eligibility.

2. Line 2: “STD NFM BMC.”

d. Mixed BMC (required); no minimum; labeling:

1. Line 1: “MXD” followed by L601, Column B information for BMC serving 3-digit ZIP Code prefix of entry post office.

2. Line 2: “STD NFM WKG.”

* * * * *

446 Enter and Deposit

* * * * *

4.0 Destination Sectional Center Facility (DSCF) Entry

* * * * *

4.2 Eligibility

* * * * *

[Insert new item c as follows:]

c. When prepared and deposited under 705.6.3.

* * * * *

5.0 Destination Delivery Unit (DDU) Entry

* * * * *

5.2 Eligibility

[Revise 5.2 to allow 5-digit sacks of parcels to be entered at DDUs and to add “Not Flat-Machinable” pieces as follows:]

Pieces in a mailing that meet the standards in 2.0 and 5.0 are eligible for the DDU rate when deposited at a DDU, addressed for delivery within that facility's service area, and prepared as follows:

a. Parcels in carrier route bundles sorted to carrier route sacks (nonmachinable parcels), and otherwise eligible for and claimed at a carrier route rate.

b. One or more parcels or Not Flat-Machinable pieces in 5-digit containers.

450 Discount Parcels: Parcel Post

453 Rates and Eligibility

[We provide the proposed rates and fees for all Parcel Post services in “Rates and Fees” at the end of this notice, after all of the proposed mailing standards.]

* * * * *

3.0 Rate Eligibility Standards for Parcel Post

3.1 Parcel Post and Parcel Select Rate Eligibility

* * * * *

[Revise item f as follows:]

f. The barcode discount applies to Inter-BMC/ASF and Intra-BMC/ASF Parcel Post machinable parcels (401.1.5) that bear a barcode under 708.5.0 for the ZIP Code of the delivery address and are part of a mailing of 50 or more Parcel Post rate pieces.

* * * * *

[Revise item h as follows:]

h. Items weighing less than 20 pounds but measuring more than 84 inches (but not more than 108 inches) in combined length and girth are charged the rate for a 20-pound parcel for the zone to which it is addressed (balloon rate).

* * * * *

455 Mail Preparation

* * * * *

5.0 Standards for Barcode Discounts 5.1 Standards for Barcoded Mail

[Revise 5.1 as follows:]

The barcode discount applies to Inter-BMC/ASF and Intra-BMC/ASF Parcel Post machinable parcels (401.1.5) that bear a barcode under 708.5.0 for the ZIP Code of the delivery address and are part of a mailing of 50 or more Parcel Post rate pieces.

* * * * *

456 Enter and Deposit

* * * * *

2.0 Parcel Select

* * * * *

2.2 Rate Eligibility for Parcel Select Rates

* * * * *

2.2.2 DBMC Rates

* * * * *

[Renumber items b and c as new items c and d. Insert new item b as follows:]

b. Machinable parcels must bear a barcode under 708.5.0 for the ZIP Code of the delivery address. Nonbarcoded machinable parcels are eligible only for the Intra-BMC/ASF rates.

* * * * *

2.6 Acceptance at Designated SCF—Mailer Benefit

* * * * *

[Revise item b as follows:]

b. Bound Printed Matter machinable parcels under 466.3.3 and Standard Mail parcels under 705.6.3 may be included.

* * * * *

460 Discount Parcels: Bound Printed Matter

[Incorporate the standards for Bound Printed Matter in 160 into 460. Make revisions throughout to change single-piece Bound Printed Matter to “nonpresorted” Bound Printed Matter and make following additional changes:]

463 Rates and Eligibility

[We provide the proposed rates and fees for all Bound Printed Matter services in “Rates and Fees” at the end of this notice, after all of the proposed mailing standards.]

* * * * *

465 Mail Preparation

1.0 General Information for Mail Preparation

* * * * *

1.3 Terms for Presort Levels

* * * * *

[Renumber items c through g as new items d through h. Insert new item c for 5-digit schemes as follows:]

c. 5-digit scheme (pallets and sacks) for Bound Printer Matter parcels: the ZIP Code in the delivery address on all pieces begins with one of the 5-digit ZIP Code zones processed by the USPS as a single scheme, as shown in L606.

* * * * *

5.0 Preparation for Presorted Parcels

* * * * *

5.2 Preparation for Irregular Parcels Weighing Less Than 10 Pounds

* * * * *

5.2.2 Bundling and Labeling

* * * * *

[Revise item a to require 5-digit schemes as follows:]

a. 5-digit/scheme (required); red Label 5 or optional endorsement line (OEL). See definition in 1.4c.

* * * * *

[Renumber 5.2.3 and 5.2.4 as new 5.2.4 and 5.2.5. Insert new 5.2.3 as follows:]

5.2.3 Scheme Bundle Preparation

See 1.4c for additional standards for pieces prepared in scheme bundles.

5.2.4 Sacking and Labeling

* * * * *

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: “PSVC IRREG 5D SCHEME” or “PSVC IRREG 5D SCH.”

* * * * *

5.3 Preparation for Nonmachinable Parcels Weighing 10 Pounds or More

* * * * *

5.3.3 Sacking and Labeling

* * * * *

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: “PSVC NON MACH 5D SCHEME” or “PSVC NON MACH 5D SCH.”

* * * * *

5.4 Preparation for Machinable Parcels Not Claiming the DBMC Rates

* * * * *

5.4.2 Sacking and Labeling

* * * * *

[Replace items a and b with new item a as follows. Renumber items c and d as new items b and c.]

a. 5-digit/scheme (required); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

5.5 Preparation for Machinable Parcels Claiming the DBMC Rates

* * * * *

5.5.2 Sacking and Labeling

* * * * *

[Replace items a and b with new item a as follows. Renumber items c through e as new items b through d.]

a. 5-digit/scheme (required); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

466 Enter and Deposit

1.0 Presenting a Mailing

[Revise the heading of 1.1 as follows:]

1.1 Verification and Entry—Presorted, Carrier Route, Destination Entry, And Barcoded Mailings

* * * * *

[Renumber 1.2 through 1.5 as new 1.3 through 1.6. Insert new 1.2 as follows:]

1.2 Verification and Entry—Nonpresorted Mailings

Nonpresorted rate Bound Printed Matter is not offered at post offices, branches, stations, or through Postal Service carriers, except under 1.2c and 1.2d. Mailers must deposit Nonpresorted Bound Printed Matter as follows:

a. At the time and place specified by the postmaster at the office of mailing.

b. For metered mail, at other than the licensing post office only as permitted under 705.17.0, Metered Mail Drop Shipment.

c. For permit imprint mail, only at the post office where the permit is held (see 604.5.0).

d. At any post office, branch, or station, or with a Postal Service carrier, if the correct postage is applied, including postage for any extra service elected.

* * * * *

3.0 Destination Bulk Mail Center (DBMC) Entry

* * * * *

3.2 Acceptance at Designated SCF—Mailer Benefit

* * * * *

[Revise item c as follows:]

c. Parcel Select machinable parcels under 456.2.6 and Standard Mail parcels under 705.6.3 may be included.

* * * * *

470 Media Mail

473 Rates and Eligibility

[We provide the proposed rates and fees for all Media Mail services in “Rates and Fees” at the end of this notice, after all of the proposed mailing standards.]

* * * * *

475 Mail Preparation

* * * * *

5.0 Preparation for Media Mail Parcels

* * * * *

5.2 Preparation for Machinable Parcels

* * * * *

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

5.3 Preparation for Nonmachinable Parcels

* * * * *

5.3.2 Bundling and Labeling

* * * * *

[Revise item a to require 5-digit schemes as follows:]

a. 5-digit/scheme (optional, but required for 5-digit rate); 10-piece minimum; red Label 5 or optional endorsement line (OEL). See definition in 1.4c.

* * * * *

5.3.4 Sacking and Labeling

* * * * *

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: “PSVC NON MACH 5D SCHEME” or “PSVC NON MACH 5D SCH.”

480 Library Mail

483 Rates and Eligibility

[We provide the proposed rates and fees for all Library Mail services in “Rates and Fees” at the end of this notice, after all of the proposed mailing standards.]

* * * * *

485 Mail Preparation

* * * * *

5.0 Preparation for Library Mail Parcels

* * * * *

5.2 Preparation for Machinable Parcels

* * * * *

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

5.3 Preparation for Nonmachinable Parcels

* * * * *

5.3.2 Bundling and Labeling

* * * * *

[Revise item a to require 5-digit schemes as follows:]

a. 5-digit/scheme (optional, but required for 5-digit rate); 10-piece minimum; red Label 5 or optional endorsement line (OEL). See definition in 1.4c.

* * * * *

5.3.4 Sacking and Labeling

* * * * *

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: “PSVC NON MACH 5D SCHEME” or “PSVC NON MACH 5D SCH.”

* * * * *

500 Additional Services

503 Extra Services

[We provide the proposed rates and fees for all extra services in “Rates and Fees” at the end of this notice, after all of the proposed mailing standards.]

* * * * *

4.0 Insured Mail

* * * * *

4.2 Basic Information

4.2.1 Description

* * * * *

[Revise item d as follows:]

d. Insured mail service provides the mailer with a mailing receipt. No record of insured mail is kept at the office of mailing. For mail insured for $200 or less, the USPS maintains delivery information (not including a signature). For mail insured for more than $200, the USPS maintains a delivery record (which includes the recipient's signature) for a specified period of time. Customers may obtain a delivery record by purchasing additional services; see 6.0 for details.

4.2.2 Eligible Matter

* * * * *

[Revise item b as follows:]

b. Standard Mail pieces prepared as machinable or nonmachinable parcels (bulk insurance only).

* * * * *

4.2.4 Additional Services

[Revise the first sentence in 4.2.4 as follows:]

Insuring an item for more than $200 allows customers to purchase restricted delivery service or return receipt service.* * *

* * * * *

[Revise item c as follows:]

c. Return receipt for merchandise (for items insured for $200 or less).

* * * * *

4.3 Mailing

* * * * *

4.3.3 Markings and Forms

* * * * *

[Revise items a and b as follows:]

a. Retail pieces insured for $200 or less: The mailer must affix a barcoded Form 3813 (see Exhibit 4.3.3) to each piece above the delivery address and to the right of the return address. No signature is obtained.

b. Retail pieces insured for more than $200: The mailer must affix a barcoded Form 3813-P (see Exhibit 4.3.3) to each piece above the delivery address and to the right of the return address.

* * * * *

4.3.5 Integrated Barcodes

* * * * *

[Revise items c1 and c2 as follows:]

1. Mailers may purchase insurance online for indemnity coverage of $200 or less with electronic option Delivery Confirmation service. The human-readable text above the integrated barcode must state, “e/USPS Delivery Confirmation.”

2. Mailers may purchase insurance online for indemnity coverage of more than $200, up to $500, with electronic option Delivery Confirmation service. The human-readable text above the integrated barcode must state, “e/USPS Insured.”

* * * * *

4.3.7 Receipt

* * * * *

[Revise items a1 and a2 as follows:]

1. Form 3813 when the insurance coverage is $200 or less.

2. Form 3813-P when the insurance coverage is more than $200.

* * * * *

4.5 Delivery

[Revise the first sentence of 4.5 and add a new second sentence as follows:]

An item insured for $200 or less is delivered as ordinary mail and receives a delivery scan. An item insured for more than $200 receives a delivery scan and the recipient's signature.* * *

* * * * *

6.0 Return Receipt

* * * * *

6.2 Basic Information

* * * * *

6.2.2 Eligible Matter

* * * * *

[Revise items b, c, and d to replace old value of $50 with new value of $200. Further revise item c to remove reference to residual shape surcharge and insert text about preparation as machinable or nonmachinable parcels as follows:]

b. First-Class Mail (including Priority Mail) when purchased at the time of mailing with Certified Mail, COD, insured mail (for more than $200), or Registered Mail service.

c. Standard Mail prepared as machinable or nonmachinable parcels when bulk insurance (for more than $200) is purchased at the time of mailing.

d. Package Services when purchased at the time of mailing with COD or insured mail (for more than $200).

* * * * *

6.3 Obtaining Service

* * * * *

6.3.2 After Mailing

[Revise first sentence of 6.3.2 to replace old value of $50 with new value of $200 as follows:]

The mailer may request a delivery record after mailing for Express Mail, Certified Mail, Registered Mail, COD mail, and mail insured for more than $200. * * *

* * * * *

7.0 Restricted Delivery

* * * * *

7.2 Basic Information

* * * * *

7.2.2 Eligible Matter

* * * * *

[Revise items a, b, and c to replace old value of $50 with new value of $200. Further revise item b to remove reference to residual shape surcharge and insert text about preparation as machinable or nonmachinable parcels as follows:]

a. First-Class Mail (including Priority Mail) when purchased at the time of mailing with Certified Mail, COD, insured mail (for more than $200), or Registered Mail service.

b. Standard Mail prepared as machinable or nonmachinable parcels when bulk insurance (for more than $200) is purchased at the time of mailing.

c. Package Services when purchased at the time of mailing with COD or insured mail (for more than $200).

* * * * *

8.0 Return Receipt for Merchandise

* * * * *

8.2 Basic Information

* * * * *

8.2.2 Eligible Matter

[Revise 8.2.2 as follows:]

Return receipt for merchandise is available for merchandise sent as Priority Mail, Standard Mail parcels, and Package Services.

* * * * *

8.2.4 Additional Services

* * * * *

[Revise item b to replace old value of $50 with new value of $200 as follows:]

b. Insurance (for up to $200).

* * * * *

9.0 Delivery Confirmation

* * * * *

9.2 Basic Information

* * * * *

9.2.2 Eligible Matter

[Revise 9.2.2 to remove reference to Standard Mail residual shape surcharge and insert text about Standard Mail preparation as machinable or nonmachinable parcels as follows:]

Delivery Confirmation is available for First-Class Mail parcels under 401.1.0, for all Priority Mail pieces, for Standard Mail pieces prepared as machinable or nonmachinable parcels (electronic option only), and for Package Services parcels under 401.1.0. For the purposes of using Delivery Confirmation with a First-Class Mail parcel or a Package Services parcel, the parcel must meet these additional requirements:

* * * * *

9.2.6 Additional Services

* * * * *

[Revise items d and e to replace old value of $50 with new value of $200 as follows:]

d. Restricted delivery, if purchased with insurance for more than $200, COD, or registry service.

e. Return receipt, if purchased with insurance for more than $200, COD, or registry service.

* * * * *

10.0 Signature Confirmation

* * * * *

10.2 Basic Information

* * * * *

10.2.2 Eligible Matter

[Revise the introductory text of 10.2.2 as follows:]

Signature Confirmation is available for First-Class Mail parcels and Package Services parcels defined in 401.1.0, and for all Priority Mail pieces. For the purposes of using Signature Confirmation with a First-Class Mail or Package Services parcel, the parcel must meet these additional requirements:

* * * * *

10.2.6 Additional Services

* * * * *

[Revise item d to replace old value of $50 with new value of $200 as follows:]

d. Restricted delivery, if purchased with insurance for more than $200, COD, or registry service.

* * * * *

13.0 Confirm

* * * * *

13.2 Basic Information

* * * * *

[Revise the heading and text in 13.2.7 as follows:]

13.2.7 Subscription

Confirm is available in blocks of 1 million units. By paying the user fee, subscribers receive 1 million units. The user fee and the 1 million units are valid for 1 year from the date purchased. Additional units may be purchased during the subscription period in blocks of 1 million with a declining price threshold as described in 13.1.1. Units expire when the annual fee expires. Units are redeemed for Confirm scans at the rate of one unit per First-Class Mail scan or five units per scan of other classes of mail.

* * * * *

507 Mailer Services

[We provide the proposed rates and fees for all mailer services in “Rates and Fees” at the end of this notice, after all of the proposed mailing standards.]

[Revise 507 to change the term “accounting fee” to “account maintenance fee” throughout the chapter.]

1.0 Treatment of Mail

* * * * *

1.5 Treatment for Ancillary Services by Class of Mail

* * * * *

1.5.2 Periodicals

* * * * *

[Revise item f to remove the nonmachinable surcharge in the second-to-last sentence as follows:]

f. * * * Each returned piece is charged the single-piece First-Class Mail rate for the weight and shape of the piece or the Priority Mail rate for the weight and destination of the piece. * * *

* * * * *

1.5.3 Standard Mail

* * * * *

[Revise the second sentence in item i as follows:]

i. * * * The weighted fee is the single-piece First-Class Mail rate for the weight and shape of the piece or the Priority Mail rate for the weight and destination of the piece multiplied by 2.472 and rounded up to the next whole cent (if the computation yields a fraction of a cent). * * *

[Revise item j as follows:]

j. Returned pieces endorsed “Return Service Requested” are charged the single-piece First-Class Mail rate for the weight and shape of the piece or the Priority Mail rate for the weight and destination of the piece.

* * * * *

1.6 Attachments and Enclosures

1.6.1 Periodicals

[Revise the first sentence in 1.6.1 as follows:]

Undeliverable Periodicals (including publications pending Periodicals authorization) with a nonincidental First-Class Mail attachment or enclosure are returned at the single-piece First-Class Mail rate for the weight and shape of the piece or Priority Mail rate for the weight and destination of the piece. * * *

1.6.2 Standard Mail

[Revise the first sentence in 1.6.2 as follows:]

Undeliverable, unendorsed Standard Mail with a nonincidental First-Class Mail attachment or enclosure is returned at the single-piece First-Class Mail rate for the weight and shape of the piece or Priority Mail rate for the weight and destination of the piece. * * *

* * * * *

3.0 Address Correction Services

* * * * *

3.2 Address Change Service (ACS)

* * * * *

3.2.2 Service Options

[Revise 3.2.2 as follows:]

ACS offers three levels of service:

a. An automated option for letter-size mail with electronic notices processed using OneCode technology (see 3.2.6, Additional Standards—4-State Customer Barcodes).

b. An electronic option for all notices processed electronically, except automated notices under 3.2.2a.

c. A manual option for notices processed manually.

* * * * *

10.0 Merchandise Return Service

* * * * *

10.5 Additional Features

* * * * *

10.5.3 Insured Markings

[Revise 10.5.3 as follows:]

The permit holder must either leave a clear space on the merchandise return label to the right of the return address for the numbered insured label or instruct the customer to affix the merchandise return label to the article so that the USPS acceptance employee can place the insured label on the article directly above the merchandise return label.

* * * * *

508 Recipient Services

[We provide the proposed rates and fees for all recipient services in “Rates and Fees” at the end of this notice, after all of the proposed mailing standards.]

1.0 Recipient Options

1.1 Basic Recipient Concerns

* * * * *

1.1.7 Express Mail and Accountable Mail

[Revise the introductory text of 1.1.7 to change the insurance threshold from $50 to $200 as follows:]

The following conditions also apply to the delivery of Express Mail and accountable mail (registered, certified, insured for more than $200, or COD, as well as mail for which a return receipt or a return receipt for merchandise is requested or for which the sender has specified restricted delivery):

* * * * *

600 Basic Standards for All Mailing Services

[Change the terminology from “irregular” parcels to “nonmachinable” parcels throughout 600.]

* * * * *

604 Postage Payment Methods

[We provide the proposed rates and fees for all mailing services in “Rates and Fees” at the end of this notice, after all of the proposed mailing standards.]

1.0 Stamps

1.1 Postage Stamp Denominations

[Add the forever stamp to the table of types and formats of stamps.]

* * * * *

[Renumber current 1.10 through 1.12 as new 1.11 through 1.13 and remove reference to nonmachinable surcharge. Insert new 1.10 as follows:]

1.10 Additional Standards for Forever Stamps

Forever stamps are sold for the price of the current First-Class Mail single-piece 1-ounce letter rate in 133.1.5. The postage value of each forever stamp is the current First-Class Mail single-piece 1-ounce letter rate.

[Revise the heading of 1.11 as follows:]

1.11 Additional Standards for Semipostal Stamps

* * * * *

[Revise item c to remove reference to nonmachinable surcharge as follows:]

c. The postage value of each semipostal stamp is the First-Class Mail single-piece 1-ounce letter rate in 133.1.5 * * *

* * * * *

609 Filing Indemnity Claims for Loss or Damage

1.0 General Filing Instructions

* * * * *

1.5 Where to File for Loss or Damage

* * * * *

[Add new text to item a as follows:]

a. Online at www.usps.com * * *

* * * * *

[Revise the heading of 2.0 as follows:]

2.0 Providing Proof of Missing Contents or Damage

[Revise 2.1 and 2.2 to change the requirements for proving missing contents or damage as follows:]

2.1 Missing Contents

If a claim is filed because some or all of the contents are missing, the addressee must make available the mailing container, including any wrapping, packaging, and any contents that were received, to the USPS with the claim.

2.2 Proof of Damage

If the addressee files the claim, the addressee must make available the damaged article and mailing container, including any wrapping, packaging, and any other contents that were received, to the USPS for inspection. If the mailer files the claim, the USPS will notify the addressee by letter to make available the damaged article and mailing container, including any wrapping, packaging, and any other contents that were received, to the USPS for inspection. Failure to do so will result in denial of the claim.

[Delete 2.3, Proof of Loss.]

* * * * *

700 Special Standards

* * * * *

705 Advanced Preparation and Special Postage Payment Systems

[Change the terminology from “irregular” parcels to “nonmachinable” parcels and from “IRREG” to “NON MACH” for parcel preparation throughout 705.]

1.0 Customized MarketMail

* * * * *

1.2 Rates

[Revise 1.2 as follows:]

Pieces mailed as Customized MarketMail under 705.1.0 must pay the Regular or Nonprofit Standard Mail 5-digit nonentry rate for Not Flat-Machinable pieces and must not exceed 3.3 ounces.

* * * * *

6.0 Combining Mailings of Standard Mail and Package Services Parcels

6.1 Combined Machinable Parcels—DBMC Entry

* * * * *

6.1.2 Basic Standards

* * * * *

[Renumber current items c through h as new items d through i. Insert new item c as follows:]

c. Parcel Select machinable parcels must bear a barcode under 708.5.0 for the ZIP Code of the delivery address.

* * * * *

[Insert new 6.3 as follows:]

6.3 Combining Package Services and Standard Mail—Optional 3-Digit Preparation

6.3.1 Acceptance at Designated SCF—Qualification and Preparation

Mailers may deposit parcels otherwise eligible for the Package Services and Standard Mail DBMC rates (for machinable parcels) and the Standard Mail SCF rate (for nonmachinable parcels and Not Flat-Machinable pieces) at an SCF designated by the USPS for destination ZIP Codes listed in labeling list L607. The following standards apply:

a. Standard Mail parcels, Not Flat-Machinable pieces, Bound Printed Matter machinable parcels, and Parcel Select machinable parcels may be included. Standard Mail parcels and Not Flat-Machinable pieces that weigh less than 2 ounces and Standard Mail parcels that are tubes, rolls, triangles, and similar pieces may not be included.

b. Mailers must prepare pieces on 3-digit pallets or in 3-digit pallet boxes, or unload and physically separate the pieces into containers as specified by the destination facility.

c. Parcel Select and Bound Printed Matter parcels are eligible for the applicable DBMC entry rate.

d. Standard Mail machinable parcels are eligible for the BMC presort level, DBMC rate; Not Flat-Machinable pieces and nonmachinable parcels are eligible for the 3-digit presort level, DSCF rate.

e. All pieces must be for delivery within the service area of the SCF where they are deposited by the mailer.

f. Postage on all zone-rated parcels deposited at the SCF is computed using the zone chart for that postal facility.

6.3.2 Documentation

Presort documentation is required for each rate claimed if the manifest does not list pieces in presort order. Separate postage statements must be prepared for the Standard Mail and Package Services pieces. Within each group, combined forms may be prepared where the standards and the forms permit. All postage statements must be provided at the time of mailing.

6.3.3 Authorization

Mailers must be authorized under 6.1.5 to prepare mailings that combine Standard Mail pieces and Package Services parcels.

6.3.4 Postage Payment

Postage for all pieces must be paid with permit imprint at the post office serving the mailer's plant under an approved manifest mailing system under 2.0.

7.0 Combining Package Services Parcels for Destination Entry

* * * * *

7.2 Combining Package Services Machinable Parcels for DBMC Entry

* * * * *

7.2.2 Basic Standards

* * * * *

[Renumber current items c through h as new items d through i. Insert new item c as follows:]

c. Parcel Select machinable parcels must bear a barcode under 708.5.0 for the ZIP Code of the delivery address.

* * * * *

8.0 Preparation for Pallets

* * * * *

8.5 General Preparation

* * * * *

8.5.6 Mail on Pallets

* * * * *

[Revise item c to delete “automation carrier route” and to replace “presorted” with “nonautomation” as follows:]

c. For letter-size Standard Mail and Periodicals prepared in trays on pallets, mailers must prepare carrier route rate mail on separate 5-digit pallets (5-digit carrier routes pallets) from automation rate or nonautomation rate mail (5-digit pallets).

* * * * *

8.10 Pallet Presort and Labeling

* * * * *

8.10.2 Standard Mail—Bundles, Sacks, or Trays

[Reorganize introductory text of 8.10.2 as follows:]

Mailers must prepare pallets under 8.0 in the sequence listed below and complete at each required level before preparing the next optional or required level. Unless indicated as optional, all sort levels are required. For mailings of sacks or trays on pallets, pallet preparation begins with 8.10.1e. Pallets must be labeled according to the Line 1 and Line 2 information listed below and under 8.6. Mailers also may palletize bundles of Standard Mail flats under 10.0, 12.0, or 13.0.

* * * * *

[Revise the heading and text of 8.10.5 to add Not Flat-Machinable pieces as follows:]

8.10.5 Package Services and Standard Mail Machinable Parcels, and Not Flat Machinable Pieces Weighing 6 Ounces or More

Pallets must be prepared under 8.0 in the sequence listed below and completed at each required level before the next optional or required level is prepared. Unless indicated as optional, all sort levels are required under the conditions shown. At the mailer's option, Inter-BMC/ASF and Intra-BMC/ASF Parcel Post mailings may be prepared on pallets under this section. Destination entry rates eligibility applies only to Standard Mail (see 446 for parcels and NFMs that weigh 6 ounces or more), Parcel Select (see 456), and Bound Printed Matter (see 466). Combined mailings of Standard Mail and Package Services machinable parcels also must meet the standards in 6.0. Pallets must be labeled according to the Line 1 and Line 2 information listed below and under 8.6.

a. 5-digit scheme, required, pallet must contain parcels or NFMs for the same 5-digit scheme under L606. For 5-digit destinations not part of L606, or for which scheme sorts are not performed, 5-digit pallets are prepared under 8.10.5b.

Labeling:

1. Line 1: L606.

2. Line 2: “STD MACH 5D,” “STD NFM 5D,” or “PSVC MACH 5D,” as applicable; followed by “SCHEME” (or “SCH”).

b. 5-digit, required. Pallet must contain parcels only for the same 5-digit ZIP Code. Labeling:

1. Line 1: city, state, and 5-digit ZIP Code destination (see 8.6.4c for overseas military mail).

2. Line 2: “STD MACH 5D,” “STD NFM 5D,” or “PSVC MACH 5D,” as applicable.

c. ASF, optional, but required for DBMC rates. Not available for the Buffalo, NY ASF in L602. Pallets must contain only parcels or NFMs for the 3-digit ZIP Code groups in L602. Labeling:

1. Line 1: L602.

2. Line 2: “STD MACH ASF,” “STD NFM ASF,” or “PSVC MACH ASF,” as applicable.

d. BMC, required. Pallets must contain only parcels or NFMs for the 3-digit ZIP Code groups in L601. Labeling:

1. Line 1: L601.

2. Line 2: “STD MACH BMC,” “STD NFM BMC,” or “PSVC MACH BMC,” as applicable.

e. Mixed BMC, optional. Labeling:

1. Line 1: “MXD” followed by information in L601, Column B, for BMC serving 3-digit ZIP Code prefix of entry post office (or labeled to plant serving entry post office if authorized by processing and distribution manager).

2. Line 2: “STD MACH WKG,” “STD NFM WKG,” or “PSVC MACH WKG,” as applicable.

[Insert new 8.10.6 as follows:]

8.10.6 Standard Mail Nonmachinable Parcels Weighing 2 Ounces or More

Mailers who palletize nonmachinable parcels must make pallets or pallet boxes when there are 250 pounds or more for the destination levels below. Pallets or pallet boxes of nonmachinable parcels (except tubes, rolls, and similar pieces) weighing 2 ounces or more must be prepared under 8.0 in the sequence listed below and completed at each required level before the next optional or required level is prepared. Unless indicated as optional, all sort levels are required. Label pallets or pallet boxes according to the Line 1 and Line 2 information listed below and under 8.6. Mailers may not prepare tubes, rolls, and similar pieces or pieces that weigh less than 2 ounces on pallets or in pallet boxes.

a. 5-digit scheme, required. Pallet or pallet box must contain parcels only for the same 5-digit scheme under L606. For 5-digit destinations not part of L606, or for which scheme sorts are not performed, prepare 5-digit pallets under 8.10.6b.

Labeling:

1. Line 1: Use L606.

2. Line 2: “STD NONMACH 5D; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD NONMACH 5D”.

c. 3-digit, optional, option not available for 3-digit ZIP Code prefixes marked “N” in L002. Pallet or pallet box must contain parcels only for the same 3-digit ZIP Code. Labeling:

1. Line 1: Use L002, Column A.

2. Line 2: “STD NONMACH 3D.”

d. ADC, required. Pallet or pallet box must contain parcels for the 3-digit ZIP Code groups in L005. Labeling:

1. Line 1: Use L602.

2. Line 2: “STD NONMACH ADC.”

e. Mixed ADC, optional. Labeling:

1. Line 1: “MXD” followed by city, state, and ZIP Code information for ADC serving 3-digit ZIP Code prefix of entry post office as shown in L603, Column A.

2. Line 2: “STD NONMACH MXD.”

* * * * *

[Insert new 8.10.7 as follows:]

8.10.7 Standard Mail Not Flat-Machinable Pieces Weighing Less Than 6 Ounces

Mailers must prepare pieces on pallets or in pallet boxes when there are 250 pounds or more of NFMs for the destination levels below. Prepare pallets or pallet boxes of NFM pieces weighing less than 6 ounces under 8.0 in the sequence listed below and completed at each required level before the next optional or required level is prepared. Unless indicated as optional, all sort levels are required. Label pallets or pallet boxes according to the Line 1 and Line 2 information listed below and under 8.6.

a. 5-digit scheme, required. Pallet or pallet box must contain NFMs only for the same 5-digit scheme under L606. For 5-digit destinations not part of L606, or for which scheme sorts are not performed, prepare 5-digit pallets under 8.10.6b. Labeling:

1. Line 1: Use L606.

2. Line 2: “STD NFM 5D; followed by “SCHEME” (or “SCH”).

b. 5-digit, required. Pallet or pallet box must contain NFMs only for the same 5-digit ZIP Code. Labeling:

1. Line 1: city, state, and 5-digit ZIP Code destination (see 8.6.4c for overseas military mail).

2. Line 2: “STD NFM 5D”.

c. 3-digit, optional, option not available for 3-digit ZIP Code prefixes marked “N” in L002. Pallet or pallet box must contain NFMs only for the same 3-digit ZIP Code. Labeling:

1. Line 1: Use L002, Column A.

2. Line 2: “STD NFM 3D.”

d. ADC, required. Pallet or pallet box must contain NFMs for the 3-digit ZIP Code groups in L005. Labeling:

1. Line 1: Use L004.

2. Line 2: “STD NFM ADC.”

e. Mixed ADC, optional. Labeling:

1. Line 1: “MXD” followed by city, state, and ZIP Code information for ADC serving 3-digit ZIP Code prefix of entry post office as shown in L004, Column A.

2. Line 2: “STD NFM MXD”.

* * * * *

8.14 Pallets of Bundles, Sacks, and Trays

* * * * *

8.14.2 Standard Mail

* * * * *

[Revise item a2 as follows:]

2. Mailers may include machinable parcels, nonmachinable parcels, and Not Flat-Machinable pieces on 5-digit pallets.

* * * * *

[Revise 11.0 to replace “presorted” with “nonautomation” throughout.]

11.0 Preparation of Cobundled Automation Rate and Nonautomation Rate Flats

11.1 First-Class Mail

11.1.1 Basic Standards

* * * * *

[Delete item f.]

* * * * *

11.2 Periodicals

11.2.1 Basic Standards

[Revise introductory text in 11.2.1 to require 5-digit scheme and 3-digit scheme sort and eliminate distinctions between AFSM 100 and UFSM 1000 flats as follows:]

Mailers may choose to cobundle (see 707.18.4ab) automation rate and nonautomation rate flat-size pieces as an option to the basic bundling requirements in 707.22.0 and 707.25.0. Flats in the same bundle must all meet the standards in 301.3.0 or all meet the standards in 707.25.3. 5-digit scheme and 3-digit scheme bundles also must meet the additional standards in 707.18.4i and 707.18.4r. Mailing jobs (for flats meeting the criteria in 301.3.0) prepared using the 5-digit scheme and/or the 3-digit scheme bundle preparation must be sacked under 10.0 or palletized under 10.0, 12.0, or 13.0. All bundles are subject to the following conditions: * * *

11.2.2 Bundle Preparation

[Add two new sentences to the beginning of 11.2.2 as follows:]

Only pieces meeting the criteria in 301.3.0 may be prepared in 5-digit scheme bundles for those 5-digit ZIP Codes identified in L007 and in 3-digit scheme bundles for those 3-digit ZIP Codes identified in L008. * * *

* * * * *

[Revise item b to require 5-digit scheme bundles as follows:]

b. 5-digit scheme, required * * *

* * * * *

[Revise item d to require 3-digit scheme bundles as follows:]

d. 3-digit scheme, required * * *

* * * * *

11.3 Standard Mail

11.3.1 Basic Standards

[Revise introductory text in 11.3.1 to require 5-digit scheme and 3-digit scheme sort and eliminate distinctions between AFSM 100 and UFSM 1000 flats as follows:]

Mailers may choose to cobundle (see 345.1.4u) automation rate and nonautomation rate flat-size pieces as an option to the basic bundling requirements in 345.5.0 and 345.7.0. Flats in the same bundle must all meet the standards in 301.3.0. 5-digit scheme and 3-digit scheme bundles must meet the additional standards in 345.1.4f and 345.1.4n. Mailing jobs prepared using the 5-digit scheme and/or 3-digit scheme bundle preparation (for flats meeting the criteria in 301.3.0) must be sacked under 10.0 or palletized under 10.0, 12.0, or 13.0. All bundles are subject to the following conditions:

* * * * *

[Delete item g. Renumber item h as new item g.]

* * * * *

11.3.2 Bundle Preparation

[Add two new sentences to the beginning of 11.3.2 as follows:]

Only pieces meeting the criteria in 301.3.0 may be prepared in 5-digit scheme bundles for those 5-digit ZIP Codes identified in L007 and in 3-digit scheme bundles for those 3-digit ZIP Codes identified in L008. * * *

[Revise item a to require 5-digit scheme bundles as follows:]

a. 5-digit scheme, required: * * *

* * * * *

[Revise item c to require 3-digit scheme bundles as follows:]

c. 3-digit scheme, required: * * *

* * * * *

15.0 Plant-Verified Drop Shipment

* * * * *

15.2 Program Participation

* * * * *

15.2.4 Periodicals

[Revise 15.2.4 to reflect the new rate structure for Periodicals mail as follows:]

Periodicals postage must be paid at the post office verifying the copies or as designated by the district. Postage is calculated from the destination USPS facility where deposited and accepted as mail (or from the facility where the Express Mail or Priority Mail drop shipment destinates). The publisher must ensure that sufficient funds are on deposit to pay for all shipments before their release. A publisher authorized under an alternative postage payment system must pay postage under the corresponding standards.

* * * * *

707 Periodicals

[We provide the proposed rates and fees for all Periodicals mail services in “Rates and Fees” at the end of this notice, after all of the proposed mailing standards.]

1.0 Rates and Fees

1.1 Outside-County—Excluding Science-of-Agriculture

* * * * *

[Renumber current 1.1.3 through 1.1.5 as new 1.1.4 through 1.1.6. Insert new 1.1.3 as follows:]

1.1.3 Outside-County Container Rate

Rate per pallet, sack, or tray containing Outside-County Periodicals mail: $0.85.

The following standards apply:

a. For mailings correctly prepared in sacks on pallets under 705.8.0, mailers pay the container rate for each sack, and not for the pallet.

b. For mailings correctly prepared in bundles or trays on pallets under 705.8.0, mailers pay the container rate for each pallet, and not for the bundles or trays.

c. For mailings not presented in containers under 707.23.4, Exception to Sacking, mailers pay the container rate for each 5-digit ZIP Code or 5-digit scheme serviced by the DDU.

* * * * *

1.2 Outside-County—Science-of-Agriculture

* * * * *

[Renumber current 1.2.3 as new 1.2.4. Insert new 1.2.3 as follows:]

1.2.3 Outside-County Container Rate

Rate per pallet, sack, or tray containing Outside-County Periodicals mail: $0.85. The following standards apply:

a. For mailings correctly prepared in sacks on pallets under 705.8.0, mailers pay the container rate for each sack, and not for the pallet.

b. For mailings correctly prepared in bundles or trays on pallets under 705.8.0, mailers pay the container rate for each pallet, and not for the bundles or trays.

c. For mailings not presented in containers under 707.23.4, Exception to Sacking, mailers pay the container rate for each 5-digit ZIP Code or 5-digit scheme serviced by the DDU.

* * * * *

2.0 Rate Application and Computation

2.1 Rate Application

2.1.1 Rate Elements

[Revise 2.1.1 to reflect the new Outside-County container rate and the new nonadvertising rate structure as follows:]

Postage for Periodicals mail includes a pound rate charge, a piece rate charge, an Outside-County container rate charge, and any discounts for which the mail qualifies under the corresponding standards.

2.1.2 Applying Pound Rate

[Revise 2.1.2 to reflect the new Outside-County container rate and the new nonadvertising rate structure as follows:]

Pound rates are applied to the weight of the pieces in the mailing as follows:

a. Outside-County pound rates are based on the weight of the advertising portion sent to each postal zone (as computed from the entry office) or delivery unit zone, and the weight of the nonadvertising portion to a delivery unit zone.

b. Science-of-Agriculture Outside-County pound rates are based on the weights of the advertising portion and the nonadvertising portion of the mail sent to each postal zone (as computed from the entry office) or delivery unit zone.

c. In-County pound rates consist of a delivery unit zone rate and an unzoned rate for all other eligible copies delivered within the county of publication.

2.1.3 Computing Weight of Advertising and Nonadvertising Portions

[Revise 2.1.3 to reflect the new Outside-County container rate and the new nonadvertising rate structure as follows:]

The pound rate charge is the sum of the charges for the computed weight of the advertising portion of copies to each zone, plus the sum of the charges for the computed weight of the nonadvertising portion of copies to each zone. The following standards apply:

a. The minimum pound rate charge for any zone to which copies are mailed is the 1-pound rate. For example, three 2-ounce copies for a zone are subject to the minimum 1-pound charge.

b. Authorized Nonprofit and Classroom publications with an advertising percentage that is 10% or less are considered 100% nonadvertising. When computing the pound rates and the nonadvertising adjustment, use “0” as the advertising percentage. Authorized Nonprofit and Classroom publications claiming 0% advertising must pay the nonadvertising pound rate for the entire weight of all copies to all zones.

* * * * *

3.0 Physical Characteristics and Content Eligibility

* * * * *

3.5 Mailpiece Construction

* * * * *

3.5.2 Size and Weight

[Insert new second sentence in 3.5.2 to include the maximum weight and thickness for Periodicals automation flat-size pieces as follows:]

* * * Automation flat-size pieces may not weigh more than 6 pounds or measure more than 1¼ inch thick. * * *

* * * * *

11.0 Basic Rate Eligibility

* * * * *

11.4 Discounts

[Delete item c to eliminate the pallet discounts.]

* * * * *

15.0 Ride-Along Rate Eligibility

* * * * *

15.3 Physical Characteristics

* * * * *

[Revise item c as follows:]

c. A Periodicals piece with a Ride-Along that claims automation rates must meet the automation requirements in 201.3.0, Physical Standards for Automation Letters and Cards, or 25.0, Preparing Flat-Size Automation Periodicals, and must maintain the same processing category as before the addition of the Ride-Along. For example, if, due to the inclusion of a Ride-Along piece, an automation letter-size host piece can no longer be processed as an automation letter, then that piece must pay the Periodicals nonautomation rate for the host piece plus the Ride-Along rate or the Standard Mail rate for the attachment or enclosure.

* * * * *

17.0 Documentation

* * * * *

17.7 Additional Standards

* * * * *

[Insert new 17.7.4 as follows:]

17.7.4 Outside-County Container Rate Documentation

A complete, signed postage statement, using the correct USPS form or an approved facsimile, must accompany each mailing, supported by standardized documentation meeting the basic standards in 708.1.0. The documentation must show how many trays, sacks, or pallets are required for the rates and discounts claimed, even when the mailing is presented under 707.23.4, Exception to Sacking, or is otherwise presented by the mailer. Documentation of postage is not required if each piece in the mailing is of identical weight and the pieces are separated when presented for acceptance by rate, by zone, and by entry discount (such as DDU and DSCF). If standardized documentation is not presented, the container charge is determined by dividing the total number of Outside-County pieces in the mailing by 24, and multiplying the result by the container rate charge.

18.0 General Information for Mail Preparation

* * * * *

18.3 Presort Terms

* * * * *

[Revise items c, e, and p as follows:]

c. A full letter tray is one in which faced, upright pieces fill the length of the tray between 85% and 100% full.

* * * * *

e. 5-digit scheme (bundles and sacks) for flats prepared according to 301.3.0: the ZIP Code in the delivery address on all pieces is one of the 5-digit ZIP Codes processed by the USPS as a single scheme, as shown in L007.

* * * * *

p. 3-digit scheme bundles for flats prepared according to 301.3.0: the ZIP Code in the delivery address on all pieces is one of the 3-digit ZIP Codes processed by the USPS as a single scheme, as shown in L008.

* * * * *

18.4 Mail Preparation Terms

* * * * *

[Revise items i and r as follows:]

i. A 5-digit scheme sort for flats prepared according to 301.3.0 yields 5-digit scheme bundles for those 5-digit ZIP Codes identified in L007. Presorting must be performed using L007. Pieces prepared in scheme bundles must meet the automation flat criteria in 301.3.0.

* * * * *

r. A 3-digit scheme sort for flats prepared according to 301.3.0 yields 3-digit scheme bundles for those 3-digit ZIP Codes identified in L008. The 3-digit scheme sort is optional, except under 705.12.0 and 705.13.0. For 705.12.0 and 705.13.0, presorting must be performed using L008. Pieces prepared in scheme bundles must meet the automation flat criteria in 301.3.0.

* * * * *

22.0 Preparing Presorted Periodicals

* * * * *

22.2 Bundle Preparation

[Revise the introductory text of 22.2 as follows:]

Only pieces meeting the criteria in 301.3.0 may be prepared in 5-digit scheme bundles for those 5-digit ZIP Codes identified in L007 and in 3-digit scheme bundles for those 3-digit ZIP Codes identified in L008. Bundling is required before traying or sacking. A bundle must be prepared when the quantity of addressed pieces for a required presort level reaches the minimum bundle size. Smaller volumes are not permitted except mixed ADC bundles and 5-digit/scheme and 3-digit/scheme bundles prepared under 22.4. Bundling is also subject to 19.0, Bundles. Preparation sequence, bundle size, and labeling:

* * * * *

[Renumber item b as item c. Insert new item b as follows:]

b. 5-digit scheme (optional); six-piece minimum; red Label 5 or OEL.

* * * * *

[Renumber items d through f as new items e through g. Insert new item d as follows:]

d. 3-digit scheme (optional); six-piece minimum; green Label 3 or OEL.

* * * * *

22.6 Sack Preparation—Flat-Size Pieces and Irregular Parcels

* * * * *

[Renumber items a through g as items b through h. Insert new item a as follows:]

a. 5-digit scheme; optional; for pieces meeting the standards in 301.3.0; 24-piece minimum, fewer pieces not permitted.

1. Line 1: L007, Column B.

2. Line 2: “PER” or NEWS” as applicable, followed by “FLTS 5D SCH NON BC.”

* * * * *

22.7 Optional Tray Preparation—Flat-Size Nonautomation Pieces

[Revise the first sentence in 22.7 as follows:]

As an option, mailers may place in trays the automation-compatible flat-size pieces prepared under 301.3.0 that would normally be placed in ADC, origin mixed ADC, or mixed ADC sacks. * * *

* * * * *

25.0 Preparing Flat-Size Automation Periodicals

25.1 Basic Standards

25.1.1 General

[Revise 25.1.1 as follows:]

Each piece must meet the weight and size standards in 301.3.0 or in 25.3. Bundle, sack, and tray preparation are also subject to 18.0 through 21.0. Trays and sacks must bear the appropriate barcoded container labels under 708.6.0.

* * * * *

25.1.5 Bundle Preparation

* * * * *

[Revise the items a, c, and d as follows:]

a. Pieces that meet the standards in 301.3.0 must be prepared in separate bundles from pieces that meet the standards in 25.3.

* * * * *

c. Each bundle of pieces prepared under 301.3.0 and each bundle of pieces prepared under 25.3 must separately meet the bundle minimums in 25.4.

d. Presort destination bundles may contain fewer than six pieces when the mailpieces are too thick or too heavy to create a six-piece bundle. Rate eligibility is not affected if the total number of pieces bundled for a presort destination meets or exceeds the minimum for rate eligibility under 14.0.

25.1.6 Scheme Bundle Preparation

[Revise 25.1.6 as follows:]

Pieces meeting the criteria in 301.3.0 must be prepared in 5-digit scheme bundles for those 5-digit ZIP Codes identified in L007 and in 3-digit scheme bundles for those 3-digit ZIP Codes identified in L008. These bundles must meet the additional standards in 18.4i or 18.4r. Pieces meeting the alternate criteria in 25.3 must not be prepared in scheme bundles.

25.1.7 Sack Preparation

[Revise 25.1.7 as follows:]

Mailers may combine bundles of pieces prepared under 301.3.0 and bundles of pieces prepared under 25.3 in the same sack.

25.1.8 Exception—Automation and Nonautomation Pieces on Pallets

[Revise the first sentence of 25.1.8 as follows:]

When the physical dimensions of the mailpieces in a Periodicals mailing meet the definition of both a letter-size piece and an automation flat-size piece, the entire job may be prepared, merged, and palletized under 705.9.0 through 705.13.0 if the applicable standards are met.* * *

* * * * *

[Renumber 25.2 and 25.3 as new 25.4 and 25.5. Insert new 25.2 and 25.3 as follows:]

25.2 Physical Standards

Each flat-size piece must be rectangular and must meet the standards in 301.3.0 or the alternative criteria in 25.3.

25.3 Alternative Criteria

25.3.1 General

Mailers may prepare automation flat-size pieces that differ in weight and thickness from the criteria in 301.3.0 according to 25.3.2 and 25.3.3. Pieces prepared under 25.3 and pieces prepared under 301.3.0 may not be combined in the same bundle. Determine length and height according to 301.3.2.

25.3.2 Weight and Size

The maximum weight for each piece is 6 pounds. The following minimum and maximum dimensions apply:

a. Minimum height is 5 inches. Maximum height is 12 inches.

b. Minimum length is 6 inches. Maximum length is 15 inches.

c. Minimum thickness is 0.009 inch. Maximum thickness is 1.25 inches.

25.3.3 Address Placement on Folded Pieces

Mailers must design folded pieces so that the address is in view when the final folded edge is to the right and any intermediate bound or folded edge is at the bottom of the piece. Unbound flat-size pieces must be at least double-folded.

25.4 Bundling and Labeling

* * * * *

[Revise items a and c in renumbered 25.4 to require scheme bundling as follows:]

a. 5-digit scheme (required for pieces meeting the standards in 301.3.0); six-piece minimum (fewer pieces permitted under 25.1.9); optional endorsement line (OEL) required.

* * * * *

c. 3-digit scheme (required for pieces meeting the standards in 301.3); six-piece minimum (fewer pieces permitted under 25.1.9); OEL required.

* * * * *

25.5 Sacking and Labeling

* * * * *

[Revise item a in renumbered 25.5 as follows:]

a. 5-digit scheme (for pieces meeting the standards in 301.3.0 only), required at 24 pieces, fewer pieces not permitted; may contain 5-digit scheme bundles only; labeling:

* * * * *

25.6 Optional Tray Preparation—Flat-Size Barcoded Pieces

[Revise the first sentence in renumbered 25.6 as follows:]

As an option, mailers may place in trays the automation-compatible flat-size pieces prepared under 301.3.0 that would normally be placed in ADC, origin mixed ADC, or mixed ADC sacks. * * *

* * * * *

26.0 Combining Multiple Editions or Publications

[Reorganize and revise 26.0 to add the definition and standards for copalletized mailings. The experimental copalletization drop-ship classifications in 709.3.0 and 709.4.0 expire, and all mailers may copalletize under 26.0 as follows:]

26.1 Description

Mailers may prepare Periodicals publications as a combined mailing by merging copies or bundles of copies to achieve the finest presort level possible or to reduce the per piece or the Outside-County container rate charge. Mailers may use one of the following methods:

a. Mailers may merge and sort together (“comail”) individually addressed copies of different editions of a Periodicals publication (one title) or individually addressed copies of different Periodicals publications (more than one title) to obtain a finer presort level.

b. Mailers may place two or more copies of different Periodicals publications (two or more titles), and/or multiple editions of the same publication in the same mailing wrapper or firm bundle and present it as one addressed piece to a single recipient to reduce the per piece charge.

c. Mailers may copalletize separately presorted bundles of different Periodicals titles and editions to achieve minimum pallet weights. Mailers do not have to achieve the finest pallet presort level possible.

26.2 Authorization

26.2.1 Basic Standards

Each publication in a combined mailing must be authorized (or pending authorization) to mail at Periodicals rates. A mailer preparing comailed or copalletized mailings under 26.1a and 26.1c must be authorized to do so by Business Mailer Support (see 608.8.1 for address). For copalletization, each mailer that sends mail to the copalletization facility also must be authorized. Requests for authorization must show:

a. The mailer's name and address.

b. The mailing office.

c. Procedures and quality control measures for the combined mailing.

d. The expected date of the first mailing.

e. A sample of the standardized documentation.

26.2.2 Denial

If the application is denied, the mailer or consolidator may file at a later date, or submit additional information needed to support the request.

26.2.3 Termination

An authorization may not exceed 2 years. Business Mailer Support may take action to terminate an authorization at any time, by written notice, if the mailer does not meet the standards.

26.3 Minimum Volume

The following minimum volume standards apply:

a. For combined mailings prepared under 26.1a, more than one Periodicals publication, or edition of a publication, are combined to meet the required minimum volume per bundle, sack, or tray for the rate claimed.

b. For combined mailings prepared under 26.1b, the minimum volume requirements in 22.0, 23.0, 201.3.0, or 25.0 apply for the rate claimed.

c. For copalletized mailings prepared under 26.1c, the minimum volume requirements for pallets in 705.8.5.3 apply for the rate claimed.

26.4 Labeling

Mailers must label all containers in a combined mailing as either “NEWS” (see 21.1.3) or “PER” as follows:

a. If at least 51% of the total number of copies in the combined mailing can qualify for “NEWS” treatment then all containers in the mailing are labeled “NEWS,” unless the mailer chooses to use “PER.”

b. If less than 51% of the total number of copies in a combined mailing can qualify for “NEWS” treatment then all containers in the mailing are labeled “PER.”

26.5 Documentation

Each mailing must be accompanied by documentation meeting the standards in 17.0, as well as any additional mailing information requested by the USPS to support the postage claimed (such as advertising percentage and weight per copy). The following additional standards apply:

a. Presort documentation required under 708.1.0 must show the total number of addressed pieces and total number of copies for each publication and each edition in the combined mailing claimed at the carrier route, 5-digit, 3-digit, and basic rates. The mailer also must provide a list, by 3-digit ZIP Code prefix, of the number of addressed pieces for each publication and each edition claimed at any destination entry discount.

b. Copalletized mailing documentation must be presented by each title and version, segment, or edition in the mailing, or by codes representing each title and version, segment, or edition. The documentation must include presort and pallet reports showing how the copalletized pieces are prepared and where they will be entered.

26.6 Postage Statements

Mailers must prepare postage statements for a combined mailing as follows:

a. Copy weight and advertising percentage determine whether separate postage statements are required for editions of the same publication:

1. If the copy weight and advertising percentage for all editions of a publication are the same, mailers may report all the editions on the same postage statement or each edition on a separate postage statement.

2. If the copy weight or the advertising percentage is different for each edition of a publication, mailers must report each edition on a separate postage statement.

b. For a combined mailing prepared under 26.1a, mailers must prepare a separate postage statement that claims all applicable per piece and per pound charges for each publication or edition except as provided in 26.2.5a. The mailer must annotate on, or attach to, each postage statement, the title and issue date of each publication or edition and indicate that the pieces were prepared as part of a combined mailing under 26.1a.

c. For mailings under 26.1b, mailers must prepare a separate postage statement claiming the applicable per pound charges for each publication or edition in the combined mailing except as provided in 26.2.5a. The mailer must annotate on, or attach to, each postage statement, the title and issue date of each publication or edition and indicate that the copies were prepared as part of a combined mailing under 26.1b. The per piece charges must be claimed as follows:

1. If all copies in the combined mailing are eligible for the Classroom or Nonprofit discount, or if all copies are not eligible for the Classroom or Nonprofit discount, mailers may claim the per piece charges only on the postage statement for the publication that contains the highest amount of advertising.

2. If a portion of the copies in the combined mailing are eligible for the Classroom or Nonprofit discount and a portion are not eligible, mailers may claim the per piece charges only on the postage statement for the publication that contains the highest amount of advertising and is not eligible for the Classroom or Nonprofit discount. The Classroom or Nonprofit per piece discount must not be claimed.

d. For copalletized mailings under 26.1c, mailers must prepare a separate postage statement for each publication in the mailing. Mailings consisting of different editions or versions of the same publication must be accompanied by one consolidated postage statement and a register of mailings.

26.7 Postage Payment

Each mailing must meet the postage payment standards in 16.0. For copalletized mailings under 26.1c, mailers must pay postage at the post office serving the facility where consolidation takes place, except that postage for publications authorized under the Centralized Postage Payment (CPP) system may be paid to the Pricing and Classification Service Center (see 608.8.4.1 for address).

26.8 Deposit of Mail

Each publication in a combined mailing must be authorized for original entry or additional entry at the post office where the mailing is entered. For copalletized mailings under 26.1c, mailers must enter each mailing at the post office serving the facility where consolidation takes place.

* * * * *

28.0 Destination Entry Rate Eligibility

28.1 Basic Standards

28.1.1 Rate Application

[Revise 28.1.1 to eliminate the pallet discounts and add the new container rate as follows:]

Outside-County addressed pieces may qualify for destination area distribution center (DADC) or destination sectional center facility (DSCF) rates under 28.2 or 28.3. Carrier route rate addressed pieces may qualify for destination delivery unit (DDU) rates under 28.4. Outside-County pieces are subject to the Outside-County container rate in 1.1.3 or 1.2.3. For all destination entry rate pieces:

a. Only one destination entry discount may be claimed for each addressed piece.

b. An individual bundle, tray, sack, or pallet may contain pieces claimed at different destination entry rates.

c. In-County carrier route rate addressed pieces may qualify for the DDU discount under 28.4.

d. The advertising and nonadvertising portions may be eligible for DADC, DSCF, or DDU pound rates based on the entry facility and the address on the piece.

* * * * *

28.2 Destination Area Distribution Center

* * * * *

28.2.3 Rates

[Revise 28.2.3 to reflect the new nonadvertising rate structure as follows:]

DADC rates include a per piece discount off the addressed piece rate, a nonadvertising pound rate, and, if applicable, an advertising pound rate.

28.3 Destination Sectional Center Facility

* * * * *

28.3.3 Rates

[Revise 28.3.3 to reflect the new nonadvertising rate structure as follows:]

DSCF rates include a per piece discount off the addressed piece rate, a nonadvertising pound rate, and, if applicable, an advertising pound rate.

28.4 Destination Delivery Unit

* * * * *

28.4.3 Rates

[Revise 28.4.3 to reflect the new nonadvertising rate structure as follows:]

DDU rates for Outside-County include a per piece discount off the addressed piece rate, a nonadvertising pound rate, and, if applicable, an advertising pound rate. DDU rates for In-County consist of a per piece discount off the addressed piece rate and a pound charge.

* * * * *

708 Technical Specifications

[Change the terminology from “irregular” parcels to “nonmachinable” parcels and from “IRREG” to “NON MACH” for parcel preparation throughout 708.]

1.0 Standardized Documentation for First-Class Mail, Periodicals, Standard Mail, and Flat-Size Bound Printed Matter

* * * * *

1.2 Format and Content

* * * * *

[Revise item c1 as follows:]

1. Tray/sack sortation level. Periodicals documentation must also show the total number of each type of container in the mailing.

* * * * *

[Revise item c3 as follows:]

3. The number of pieces for each 5-digit ZIP Code in 5-digit/scheme bundles or trays; for each 3-digit ZIP Code in 3-digit/scheme bundles or trays; for each 3-digit/scheme in (A)ADC bundles or trays; for each (A)ADC in mixed (A)ADC bundles or trays (or, for Periodicals, origin mixed ADC trays). For automation-rate mailings prepared under the no overflow option, the number of pieces in the next higher level tray in lieu of overflow trays. For ECR letters prepared under 245.6.0, the number of pieces in carrier routes within full trays. For automation flats, regular nonautomation presort mail, and ECR Standard Mail, the number of pieces in each bundle level and presort destination.

* * * * *

1.3 Rate Level Column Headings

* * * * *

[Delete the “Carrier Route” entry in item a. Revise the “3/5” and “Basic” entries as follows:]

Rate | Abbreviation
* * * * * * *
5-Digit [Standard Mail flats] | 5B
3-Digit [Standard Mail flats] | 3B
ADC [Standard Mail flats] | AB
Mixed ADC [Standard Mail flats] | MB
* * * * * * *

[Delete the “3/5” entry in item b. Revise the “5-Digit,” “3-Digit,” and “Basic” entries in item b as follows:]

Rate | Abbreviation
* * * * * * *
5-Digit [Standard Mail letters; Periodicals letters, flats, and parcels] | 5D
3-Digit [Standard Mail letters; Periodicals letters, flats, and parcels] | 3D
ADC [letters/cards and flats] | AD
Mixed ADC [letters/cards and flats] | MD
* * * * * * *

[Delete the “Basic Automation” entry in item c.]

* * * * *

1.4 Sortation Level

* * * * *

[Revise the “5-Digit Scheme” entry as follows:]

Sortation level | Abbreviation
* * * * * * *
5-Digit Scheme [barcoded and machinable letters] | 5DGS
* * * * * * *

[Revise the heading of 5.0 as follows:]

5.0 Barcoding Standards for Parcels and Not Flat-Machinable Pieces

5.1 Basic Requirements for Postal Routing Barcodes.

[Revise 5.1 as follows:]

Mailers may use a postal routing barcode on parcels and Not Flat-Machinable pieces that meet the eligibility requirements in 443.1.1 for First-Class Mail, 443.4.4 and 443.5.5 for Standard Mail, 453.3.1 for Parcel Post, 463.4.1 for Bound Printed Matter, 473.3.4 for Media Mail, or 483.3.4 for Library Mail. Each parcel must bear a properly prepared UCC/EAN Code 128 barcode symbology as described in 5.3 that accurately represents the correct ZIP Code or ZIP+4 code of the delivery address. For information on barcode placement for parcels, see 402.4.0.

* * * * *

6.0 Barcoding Standards for Container Labels

6.1 Basic Standards—Tray and Sack Labels

6.1.1 Use

* * * * *

Exhibit 6.1.4 3-Digit Content Identifier Numbers

[Revise the content identifier numbers for First-Class Mail automation letters, Enhanced Carrier Route Standard Mail letters, and Not Flat-Machinable pieces.]

* * * * *

7.0 Optional Endorsement Lines (OELs)

7.1 OEL Use

7.1.1 Basic Standards

* * * * *

Exhibit 7.1.1 OEL Formats

[Delete the example for Carrier Route—Automation (First-Class Mail and Standard Mail).]

* * * * *

8.0 Carrier Route Information Lines

8.1 Basic Information

[Delete reference to First-Class Mail as follows:]

Bundles for individual carrier routes, rural routes, highway contract routes, post office box sections, or general delivery units must be prepared with facing slips under 245.2.11 for Standard Mail letters, 345.2.14 for Standard Mail flats, 365.2.13 for Bound Printed Matter flats, 445.2.12 for Standard Mail parcels, 465.2.12 for Bound Printed Matter parcels, and 707.19.16 for Periodicals, optional endorsement lines under 7.0, or carrier route information lines under 8.2. These standards apply to Carrier Route Periodicals, Enhanced Carrier Route Standard Mail, and Carrier Route Bound Printed Matter mailings. Carrier route information lines may be on all pieces in a mailing, regardless of presort level.

* * * * *

709 Experimental Classifications and Rates

* * * * *

[Delete 3.0, Outside-County Periodicals Copalletization Drop-Ship Classification; 4.0, Outside-County Periodicals Copalletization Drop-Ship Discounts for High-Editorial, Heavy-Weight, Small-Circulation Publications; and 5.0, Priority Mail Flat-Rate Box. Renumber remaining sections 6.0 and 7.0 as new 3.0 and 4.0. The experimental copalletization discounts expire and are replaced by the new rate structure for Periodicals mail in 707. The Priority Mail Flat-Rate Box becomes a permanent offering in 123. We provide the proposed rates and fees for all remaining experimental services in “Rates and Fees” at the end of this notice, after all of the proposed mailing standards.]

* * * * *

We will publish an appropriate amendment to 39 CFR Part 111 to reflect these changes if our proposal is adopted.

Neva R. Watson,
Attorney, Legislative.

BILLING CODE 7710-12-P

[FR Doc. 06-7751 Filed 9-27-06; 8:45 am]

BILLING CODE 7710-12-C